DEPARTMENT OF STATE

[Public Notice 5482]

Office of Protocol; Gifts to Federal Employees From Foreign Government Sources Reported to Employing Agencies in Calendar Year 2005

The Department of State submits the following comprehensive listing of the statements which, as required by law, Federal employees filed with their employing agencies during calendar year 2005 concerning gifts received from foreign government sources. The compilation includes reports of both tangible gifts and gifts of travel or travel expenses of more than minimal value, as defined by statute. Also, included are gifts received in previous years including 1 gift in 2002, 1 gift in 2003, 8 gifts in 2004 and 3 travel expenses in 2004. These latter gifts and expenses are being reported in 2005 as the Office of Protocol, Department of State, did not receive the relevant information to include them in earlier reports.

Publication of this listing in the Federal Register is required by Section 7342(f) of Title 5, United States Code, as added by Section 515(a)(1) of the Foreign Relations Authorization Act, Fiscal Year 1978 (Pub. L. 95-105, August 17, 1977, 91 Stat. 865).

Dated: July 28, 2006.
Henrietta H. Fore,
Under Secretary for Management, Department of State.

AGENCY: President of the U.S. and the National Security Council
[Report of tangible gifts]
Name and title of person accepting the gift on behalf of the U.S. Government | Gift, date of acceptance on behalf of the U.S. Government, estimated value, and current disposition or location | Identity of foreign donor and government | Circumstances justifying acceptance
President | Consumables: Dean and Deluca gift basket. Rec'd—January 4, 2005. Est. Value—$500. Disposition—Handled pursuant to Secret Service policy | His Excellency Shaykh Hamad Bin Jassim Bin Jabor Al Thani, First Deputy Prime Minister of Foreign Affairs of the State of Qatar | Non-acceptance would cause embarrassment to donor and U.S. Government.
President | Household accessories: (2): 5″ x 7″ Mara sterling picture frame; and 14″ silver-plate circular Mara tray with an inlaid wood base. Rec'd—January 27, 2005. Est. Value—$470. Location—Archives Foreign Household accessory: 4” blue Faberge crystal etched votive candle holder. Rec'd—January 27, 2005 Est. Value—$50. Location—Archives Foreign Household accessory: 7″ x 9″ Faberge crystal and gold cherry bowl etched with a floral pattern. Rec'd—January 27, 2005 Est. Value—$700 Location—Archives Foreign Household accessory: 10″ pewter Arte Italica Etruscan pitcher, Rec'd—January 27, 2005 Est. Value—$250 Location—Archives Foreign Pet supply: 30″ x 21″ leather dog bed with a yellow and hunter green plaid cushion. Rec'd—January 27, 2005 Est. Value—$280 Location—Archives Foreign Household accessory: 11½″ brown alligator leather thermos. Rec'd—January 27, 2005 Est. Value—$800 Location—Archives Foreign Household accessory: 27″ x 20″ x 15″ brown leather-covered trunk. Rec'd—January 27, 2005 Est. Value—$120 Location—Archives Foreign | His Majesty Sultan Maji Massanal Bolkiah Mu'izzaddin Waddaulah Sultan and Yang Di-Pertuan of Brunei Darussalam | Non-acceptance would cause embarrassment to donor and U.S. Government.
President | Desk accessory: 8″ x 5″ sterling desk organizer with 6″ piece of amber and a business card holder etched with an image of the President's residence in Warsaw. Rec'd—February 14, 2005 Est. Value—$750. Location—Archives Foreign | His Excellency Aleksander Kwasniewski, President of the Republic of Poland | Non-acceptance would cause embarrassment to donor and U.S. Government.
President | Tapestry: 77″ x 64″ beige wool contemporary tapestry, woven in the style of a 17th century hunt scene. Central panel with figures and landscape, framed by a wide border of fruits and flowers. Rec'd—February 21, 2005, Est. Value—$900. Location—Archives Foreign | His Excellency Guy Verhofstadt, Prime Minister of Belgium | Non-acceptance would cause embarrassment to donor and U.S. Government.
President | Leatherbound limited edition book: “Proglas,” published by Perfekt Publishing House; with accompanying CD. Rec'd—February 28, 2005. Est. Value—$275 Location—Archives Foreign Photographs: (33): 8″ x 10″ color photographs of President and Mrs. Bush's visit to the Slovak Republic February, 2005; held in a leather photo album embossed with “President of the Slovak Republic, H.E. Ivan Gasparovic.” Rec'd—February 28, 2005. Est. Value—$375. Location—Archives Foreign | His Excellency Ivan Gasparovic, President of the Slovak Republic | Non-acceptance would cause embarrassment to donor and U.S. Government.
President | Household accessories (6): 6″ crystal glasses etched with the Belgian royal crest. Rec'd—March 4, 2005. Est. Value—$750. Location—Archives Foreign Household accessory: 10″ cut crystal decanter etched with the Belgian royal crest. Rec'd—March 4, 2005 Est. Value—$198 Location—Archives Foreign | Their Majesties King Albert II and Queen Paola of Belgium | Non-acceptance would cause embarrassment to donor and U.S. Government
President | Miscellaneous: 96″ brass and wood Slovak musical instrument (Fujara) engraved “Georgovi W. Bushovi, Prezidentovi, USA, Venuje Ivan Gasparovic, President Slovenskej Republiky.” Rec'd—March 4, 2005. Est. Value—$600 Location—Archives Foreign Weapon: 16″ 24kt gold and silver dagger with synthetic rubies inset in the handle; held in a gold-tone presentation case with plaques engraved with “Sword of a Slovak Duke from the Eighth Century, found in Blatnica, Slovak Republic” and “Prezident Slovenskej Republiky Ivan Gasparovic Venuje Prezidentovi Spojenych Statov Americkych Georgeovi W. Bushovi, 24 February, 2005, Bratislava.” Rec'd—March 4, 2005 Est. Value—$500. Location—Archives Foreign | His Excellency Ivan Gasparovic, The President of the Slovak Republic and Mrs. Gasparovic | Non-acceptance would cause embarrassment to donor and U.S. Government.
President | Household accessory: 72″ x 54″ orange, gold, and navy blue striped Hermes wool blanket. Rec'd—March 4, 2005 Est. Value—$940 Location—Archives Foreign | His Excellency Jacques Chirac, President of the French Republic | Non-acceptance would cause embarrassment to donor and U.S. Government
President | Clothing; traditional Slovak rafting costume including a 15″ black felt hat with a red leather and white shell band, a 46″ x 6″ light brown leather and brass belt embossed with a geometric pattern, and a brown, black, red, and green leather and shearling vest embroidered with small flowers. Rec'd—March 4, 2005. Est. Value—$600. Location—Archives Foreign Miscellaneous: 21″ x 9″ green, white, and brown metal and wood railroad sign painted with a white cross on one side and engraved “Zeleznice Slovenskej Republiky, The Railways of the Slovak Republic” on the other side; with accomanying whistle. Rec'd—March 4, 2005. Est. Value $42. Location—Archives Foreign | His Excellency Mikulas Dzurinda, Prime Minister of the Slovak Republic | Non-acceptance would cause embarrassment to the donor and U.S. Government.
President | Artwork: 6″ x 6″ bronze Auguste Tremont sculpture of a fox. Rec'd—March 4, 2005. Est. Value—$350. Location—Archives Foreign | His Excellency Jean-Claude Juncker, Prime Minister of the Grand Duchy of Luxemborg | Non-acceptance would cause embarrassment to donor and U.S. Government.
President | Collectable: 20″ x 14″ double masted and three jib model ship; hull painted in green and white with natural wood deck fittings; atop a 20″ x 8″ wooden base with a presentation plate engraved with “Presented to H.E. George W. Bush, President of United States By Traian Basescu, President of Romania, March 09, 2005.″ Rec'd—March 9, 2005. Est. Value—$425. Location—Archives Foreign Photographs: 14″ x 11″ brown leather photo album containing photographs of soldiers and embossed “Romania” on the front with a brass presentation plate inside engraved “Romanian and American Soldiers Fighting Shoulder to Shoulder Against Terrorism in Iraq and Afghanistan.” Rec'd—March 9, 2005. Est. Value—$250. Location—Archives Foreign | His Excellency Traian Basescu, President of Romania | Non-acceptance would cause embarrassment to donor and U.S. Government.
President | Household accessories (3): 9½″ hammered sterling ladles. Rec'd—March 10, 2005. Est. Value—$400. Location—Archives Foreign Softcover book: “Traditional Korean Kitchen and Utensils.” Rec'd—March 10, 2005. Est. Value—$27. Location—Archives Foreign | His Excellency Hong Seok-hyun, Ambassador of the Republic of Korea | Non-acceptance would cause embarrassment to donor and U.S. Government.
President | Photograph: 15″ x 11″ black and white photograph of former President George H. W. Bush and former Colombian president, Virgilio Barco Vargas in Bogota; matted and held in a dark wood frame. Rec'd—March 10, 2005. Est. Value—$225. Location—Archives Foreign Miscellaneous: 19″ x 24″ copy of the Cartagena Declaration printed “The Presidents of Bolivia, Colombia, the United States of America and Peru, met in Cartagena de Indies, Colombia on the fifteenth day of February one thousand nine hundred and ninety and issued the following Declaration of Cartagena* * *”; matted and held in a dark wood frame. Rec'd—March 10, 2005. Est. Value—$190. Location—Archives Foreign | His Excellency Alvaro Uribe Velez, President of the Republic of Colombia | Non-acceptance would cause embarrassment to donor and U.S. Government.
President | Artwork: 12″ x 5″ wooden bowl made from yellow birch (circa 1624) recovered from Peninsula Lake, Canada; crafted by Don Thur. Rec'd—March 23, 2005. Est. Value—$1500. Location—Archives Foreign | The Right Honorable Paul Martin, P.C., M.P., Prime Minister of Canada | Non-acceptance would cause embarrassment to donor and U.S. Government.
President | Artwork: 12″ x 10″ x 4″ linaloe wood hinged box hand-painted with jaguars in the forest in 23kt. gold leaf, dolomite, chia oil, and black pigment. Rec'd—March 29, 2005. Est. Value—$495. Location—Archives Foreign Hardcover book (in Spanish): “Lacas Mexicanas (Mexican Lacquerwork).” Rec'd—March 29, 2005. Est. Value—$25. Location—Archives Foreign | His Excellency Vicente Fox Quesada, President of the United Mexican States | Non-acceptance would cause embarrassment to donor and U.S. Government.
President | Household accessory: 17″ x 30″ multi-colored Victoria Gres wool pillow woven with an abstract design. Rec'd—April 4, 2005. Est. Value—$80. Location—Archives Foreign Consumable: bottle of Massandra Dessert Rose Muscat wine. Rec'd—April 4, 2005. Est. Value—$150. Disposition—Handled pursuant to Secret Service policy | His Excellency Viktor Yushchenko, President of Ukraine | Non-acceptance would cause embarrassment to donor and U.S. Government.
President | Collectable: 10″ x 7″ clay water pitcher, accompanied by a certificate of antiquity “Pottery Jug, 8th-6th Century B.C.E., Kingdom of Judah. Mounted on a wooden base, in a plexiglass display case. Rec'd—April 11, 2005. Est. Value—$600. Location—Archives Foreign | His Excellency Ariel Sharon, Prime Minister of Israel | Non-acceptance would cause embarrassment to donor and U.S. Government.
President | Household accessory: 6″ x 8″ sterling Ravissant urn stamped with an intricate floral design. Rec'd—April 15, 2005. Est. Value—$750. Location—Archives Foreign | The Honorable Natwar Singh, Minister of External Affairs of the Republic of India | Non-acceptance would cause embarrassment to donor and U.S. Government.
President | Softcover book: “The Muslim Jesus: Sayings and Stories in Islamic Literature,” by Tarif Khalidi; inscribed by donor. Rec'd—April 25, 2005. Est. Value—$23. Location—Archives Foreign Artwork: 17″ x 15″ vermeil horse statue atop a 17″ x 7″ malachite base with a 6″ gold, mother of pearl, and malachite octagonal clock. Rec'd—April 25, 2005. Est. Value—$8,000. Location—Archives Foreign | His Royal Highness Abdallah bin Abd al-Aziz Al Saud Crown Prince, First Deputy Prime Minister and Commander of the National Guard of Saudi Arabia | Non-acceptance would cause embarrassment to donor and U.S. Government.
President | Artwork: 12″ x 17″ multi-colored Amalia Tapia pastel of a street lined with streetlamps and crosses; matted and held in a 22″ x 28″ gold-tone frame. Rec'd—April 28, 2005. Est. Value—$350. Location—Archives Foreign | Mrs. Vivian Fernandez de Torrijos, Office of the President of the Republic of Panama | Non-acceptance would cause embarrassment to donor and U.S. Government.
President | Photograph: 11″ x 13″ image of a a man holding a Statue of Liberty figurine in the air at a rally during the Georgian Rose Revolution; matted, held in a silver-tone metal frame and inscribed by donor. Rec'd—May 5, 2005. Est. Value—$40. Location—Archives Foreign Honoraria: 3¼″ x 2″ 14kt gold and red-tone Order of St. George medallion intersected with two swords, held on a 2″ red and white collar. Rec'd—May 5, 2005. Est. Value—$450. Location—Archives Foreign | His Excellency Mikheil Saakashvili, President of Georgia | Non-acceptance would cause embarrassment to donor and U.S. Government.
President | Artwork: 10″ x 4″ sterling and gold abstract sculpture, by Kaspars Millers, of a boat with four arched legs; atop a 14″ x 6″ oblong wooden base. Rec'd—May 6, 2005. Est. Value—$500. Location—Archives Foreign | Her Excellency Vaira Vike-Freiberga, President of the Republic of Latvia and Dr. Imants Freibergs | Non-acceptance would cause embarrassment to donor and U.S. Government.
President | Honoraria: vermeil State Award of Latvia, the Three Star Order, including brooch and chain. Rec'd—May 7, 2005. Est. Value—$500. Location—Archives Foreign | Her Excellency Vaira Vike-Freiberga, President of the Republic of Latvia | Non-acceptance would cause embarrassment to donor and U.S. Government.
President | Photograph: 8″ x 10″ print of a photograph of former President Roosevelt, Winston Churchill, and Joseph Stalin; held in a gold-tone and wood frame. Rec'd—May 8, 2005. Est. Value—$20. Location—Archives Foreign | His Excellency Vladimir Putin, President of the Russian Federation | Non-acceptance would cause embarrassment to donor and U.S. Government.
| Photograph: 8″ x 11″ print of a photograph of former President George H. W. Bush and family on the rocks at Kennebunkport, inscribed by former President Bush. Rec'd—May 8, 2005. Est. Value—$5. Location—Archives Foreign
| Collectable: 4″ x 4″ silver horseshoe from donor's stable inlaid with aquamarine stones. Rec'd—May 8, 2005. Est. Value—$250. Location—Archives Foreign
| Coins (5): 3″ silver-tone coin etched with a tank, automobiles, a silhouette of a man on horseback and “1943” on the front, and Red Square “1945-2005” on the reverse; 3″ silver-tone coin etched with soldiers, a tank and “1942” on the front, and Red Square “1945-2005” on the reverse; 3” silver-tone coin etched with two lines of marching soldiers and “1941” on the front, and Red Square “1945-2005” on the reverse; 3″ silver-tone coin etched with three soldiers in front of American and Soviet flags and “1944” on the front, and Red Square “1945-2005” on the reverse; and a 3″ silver-tone coin etched with a star and a statue of a man cradling a statue and “1945” on the front, and Red Square “1945-2005” on the reverse. Rec'd—May 8, 2005. Est. Value—$200. Location—Archives Foreign
| Plaque: 14½″ x 18″ wooden plaque with design in relief depicting the 60th anniversary of the conclusion of World War II, made of brass and colored rhinestones. Rec'd—May 8, 2005. Est. Value—$250. Location—Archives Foreign
President | Household accessories (40): stainless steel Villeroy and Boch flatware set engraved with the seal of El Salvador. Rec'd—May 12, 2005. Est. Value—$950. Location—Archives Foreign | His Excellency Elias Antonio Saca Gonzalez, President of the Republic of El Salvador | Non-acceptance would cause embarrassment to donor and U.S. Government.
President | Hardcover book: “Museo del Oro Precolombino de Costa Rica,” by Patricia Fernandez Esquivel; inscribed by donor. Rec'd—May 12, 2005. Est. Value—$85. Location—Archives Foreign Accessories: ¾″ 14kt gold cufflinks in the shape of an indigenous Costa Rican animal god. Rec'd—May 12, 2005. Est. Value—$250. Location—Archives Foreign | His Excellency Abel Pacheco de la Espriella, President of the Republic of Costa Rica | Non-acceptance would cause embarrassment to donor and U.S. Government.
President | Collectable: 12″ x 12″ silver and dark wood chess set with silver and gold-tone pieces. Rec'd—May 18, 2005. Est. Value—$359. Location—Archives Foreign | His Excellency Ahmed Nazif, Prime Minister of the Arab Republic of Egypt | Non-acceptance would cause embarrassment to donor and U.S. Government.
President | Household item: 119″ x 80″ beige rug printed with a maroon, black and brown diamond print. Rec'd—May 23, 2005. Est. Value—$8,000. Location—Archives Foreign | His Excellency Hamid Karzai, Chairman of the Interim Authority of Afghanistan | Non-acceptance would cause embarrassment to donor and U.S. Government.
President | Plaque: 2½″ x 5″ rectangular-shaped 18kt gold commemorative plaque stamped “Heyder Eliyev, adina, Baki-Tbilisi-Ceyhan, Boru Kemeri, 2005” on the front with the map of the Baku-Tbilisi-Ceyhan pipeline on the reverse. Rec'd—May 25, 2005. Est. Value—$2,850. Location—Archives Foreign | His Excellency Ilham Aliyev, President of the Republic of Azerbaijan | Non-acceptance would cause embarrassment to donor and U.S. Government.
President | Religious item: 4″ x 6½″ book of prayers bound by an ornate silver cover stamped with religious imagery. Rec'd—May 26, 2005. Est. Value—$350. Location—Archives Foreign Miscellaneous: traditional Palestinian dress and shawl with a metal and beaded necklace held in a 26″ x 26″ stamped leaf print brass shadow-box with a presentation plaque stamped “This hand-made brass frame is embelmatic of Palestinian traditional costume and antique jewelry with the renowned cross-stitch embroidery.” Rec'd—May 26, 2005. Est. Value—$325. Location—Archives Foreign | Mr. Mahmoud Abbas, President of the Palestinian Authority | Non-acceptance would cause embarrassment to donor and U.S. Government.
President | Tea set: 5″ white porcelain tea pot with celadon border and image of two small panda bears in center with 2″ matching tea cups and saucers (4). Rec'd—June 7, 2005. Est. Value—$310. Location—Archives Foreign | His Excellency Sheng Huaren, Vice Chairman of the Standing Committee of the National People's Congress of the People's Republic of China | Non-acceptance would cause embarrassment to donor and U.S. Government.
President | Household accessory: 14″ x 10″ x 3½″ hinged cherry wood document box with an embroidered cloth of a landscape scene of Mount Gonryun on the lid, by Kim Young Ja. Rec'd—June 10, 2005. Est. Value—$600. Location—Archives Foreign | His Excellency Roh Moo-hyun, President of the Republic of Korea and Mrs. Kwon Yang-suk | Non-acceptance would cause embarrassment to donor and U.S. Government.
President | Hardcover book: “Mozambique: a Terra e as Gentes (Mozambique: The Land and its People),” by Niza Paiva; inscribed by donor. Rec'd—June 13, 2005. Est. Value—$60. Location—Archives Foreign Artwork: 19″ wood statue of an elevated African hut with carved human figures on the base and second tier of the piece. Rec'd—June 13, 2005. Est. Value—$325. Location—Archives Foreign | His Excellency Armando Guebuza, President of the Republic of Mozambique | Non-acceptance would cause embarrassment to donor and U.S. Government.
President | Hardcover book: “Tule: Land of Giants,” by Roger and Pat de la Harpe. Rec'd—June 13, 2005. Est. Value—$43. Location—Archives Foreign Miscellaneous: 32″ x 11″ poster printed “Botswana Arts and Crafts” with four handcrafted pots; matted and held in a gold-tone frame. Rec'd—June 13, 2005. Est. Value—$375. Location—Archives Foreign | His Excellency Festus Gontebanye Mogae, President of the Republic of Botswana | Non-acceptance would cause embarrassment to donor and U.S. Government.
President | Hardcover book: “Tule: Land of Giants,” by Roger and Pat de la Harpe. Rec'd—June 13, 2005. Est. Value—$43. Location—Archives Foreign Miscellaneous: 32″ x 11″ poster printed “Botswana Arts and Crafts” with four handcrafted pots; matted and held in a gold-tone frame. Rec'd—June 13, 2005. Est. Value—$375. Location—Archives Foreign | His Excellency Festus Gontebanye Mogae, President of the Republic of Botswana | Non-acceptance would cause embarrassment to donor and U.S. Government.
President | Miscellaneous: 21″ x 18″ blue leather frame containing 21 silver-tone 3″; medals. Rec'd—June 13, 2005. Est. Value—$75. Location—Archives Foreign | His Excellency Mamadou Tandja, President of the Republic of Niger | Non-acceptance would cause embarrassment to donor and U.S. Government.
| Accessories (2): 13″ x 12″ black leather handbag with white embroidery on the exterior compartment; and a 6″ x 8″ zippered black fabric bag with multi-colored embroidery. Rec'd—June 13, 2005. Est. Value—$220. Location—Archives Foreign
| Jewelry: 3″ silver and quartz pendant held on a black and silver beaded necklace. Rec'd—June 13, 2005. Est. Value—$100. Location—Archives Foreign
| Household items (4): 24″ round black and orange leather cushion covers embroidered “Africa,” “Iferouane,” “Agadez,” “Tahoua,” and “Zinder.” Rec'd—June 13, 2005. Est. Value—$480. Location—Archives Foreign
| Household item: 76″ x 96″ black and orange checkered leather rug embroidered with African medals. Rec'd—June 13, 2005. Est. Value—$450. Location—Archives Foreign
President | Artwork: limited edition (20/400) 15″ x 9″ bronze sculpture “Ermesinde, The Woman, The Myth” depicting the countess against the backdrop of the outline of walls of the City of Luxembourg, by Yvette Gastauer-Claire; signed by artist. Rec'd—June 16, 2005. Est. Value—$450. Location—Archives Foreign | His Excellency Jean-Claude Juncker, Prime Minister of the Grand Duchy of Luxemborg | Non-acceptance would cause embarrassment to donor and U.S. Government.
President | Collectable: 35″ x 14″ olive green ceramic and porcelain crackle glaze incense burner by Tran Do with presentation plaque engraved “With the Compliments from H.E. Mr. Phan Van Khai Prime Minister of the Socialist Republic of Vietnam”; lid has dragon-shaped handles, and base features dragon and tiger design. Rec'd—June 21, 2005. Est. Value—$1,500. Location—Archives Foreign | His Excellency Phan Van Khai, Prime Minister of the Socialist Republic of Vietnam | Non-acceptance would cause embarrassment to donor and U.S. Government.
President | Hardcover book: “Frank Rodel: Prinzip Collage,” by Frank Rodel; inscribed by author. Rec'd—June 27, 2005. Est. Value—$35. Location—Archives Foreign Artwork: 19″ x 25″ oil and acrylic watercolor collage by Frank Rodel, on Japanese paper, “Eagle V, 1996,” depicting a bald eagle with bold structural shapes of black, pale blue and slate on creme canvas, held in a black 23″ x 31″ frame. Rec'd—June 27, 2005. Est. Value—$500. Location—Archives Foreign | His Excellency Gerhard Schroeder, Chancellor of the Federal Republic of Germany | Non-acceptance would cause embarrassment to donor and U.S. Government.
President | Household: 10″ green and brown glazed ceramic bowl with 18kt gold floral and geometric designs, signed by artist. Rec'd—July 5, 2005. Est. Value—$750. Location—Archives Foreign | His Majesty Mohammed, VI, King of Morocco | Non-acceptance would cause embarrassment to donor and U.S. Government.
President | Collectables (2): 2″ stamps (9) from Denmark matted and held in a 13″ x 16″ gold-tone wood frame; and 2″ “American Series” stamps (8) held on landscape backgrounds of notable American locations including the Statue of Liberty and the United States Capitol; matted and held in a 13″ x 16″ gold-tone wood frame. Rec'd—July 5, 2005. Est. Value—$800. Location—Archives Foreign | His Excellency Anders Fogh Rasmussen, Prime Minister of Denmark | Non-acceptance would cause embarrassment to donor and U.S. Government.
President | Photograph: 8″ x 10″ photo of Queen Margrethe II and Prince Henri with the royal seal; signed and held in a burl wood frame. Rec'd—July 6, 2005. Est. Value—$225. Location—Archives Foreign Hardcover book: “The Stories of Hans Christian Andersen”; inscribed by donor. Rec'd—July 6, 2005. Est. Value—$87. Location—Archives Foreign | Her Majesty Margrethe, II Queen of Denmark | Non-acceptance would cause embarrassment to donor and U.S. Government.
President | Photographs (40): 6″ x 8½″ color photos documenting President and Mrs. Bush's trip to Russia in honor of the 60th anniversary of the end of WWII; held in a 11″ x 12″ navy blue leather album stamped “1945-2005” around a silhouette of Red Square. Re'cd—July 6, 2005. Est. Value—$235. Location—Archives Foreign Artwork: 6″ x 10″ acrylic on board of a destroyer at sea; matted and held in a gold-rimmed wood frame. Rec'd—July 6, 2005. Est. Value—$150. Location—Archives Foreign | His Excellency Vladimir Putin, President of the Russian Federation | Non-acceptance would cause embarrassment to donor and U.S. Government.
President | Accessories (6): variety of E. Marinella silk ties, including a burgundy tie with a small blue floral pattern, a red tie with a small blue and yellow floral pattern, and four navy blue ties with a blue, red and yellow geometric pattern. Rec'd—July 7, 2005. Est. Value—$810. Location—Archives Foreign | His Excellency Silvio Berlusconi, President of the Council of Ministers of the Italian Republic | Non-acceptance would cause embarrassment to donor and U.S. Government.
President | Clothing (size L): navy blue waffle-knit cotton polo shirt embroidered “Gleneagles” around the Gleneagles British School of Falconry Crest. Rec'd—July 7, 2005. Est. Value—$65. Location—Archives Foreign Accessory: 13″ x 63″ light blue Begg Scottish cashmere scarf with fringe. Rec'd—July 7, 2005. Est. Value—$300. Location—Archives Foreign Athletic equipment: St Andrews Links tartan gift box containing a magnetic divot tool featuring the St Andrews Logo, two ballmarkers, an Old and New Course golf ball, a tee bag pouch and a St Andrews Links navy, green, red and yellow velour tartan golf towel monogrammed “The Old Course St Andrews Links,” with logo. Rec'd—July 7, 2005. Est. Value—$60. Location—Archives Foreign | The Right Honorable Tony Blair, Prime Minister of the United Kingdom of Great Britain and Northern Ireland | Non-acceptance would cause embarrassment to donor and U.S. Government.
President | Collectable: 7″ x 8″ Lalique engraved crystal stallion paperweight. Rec'd—July 7, 2005. Est. Value—$1,120. Location—Archives Foreign | His Excellency Jacques Chirac, President of the French Republic | Non-acceptance would cause embarrassment to donor and U.S. Government.
President | Miscellaneous: iSense 19″ x 12″ battery-operated plastic and nylon foot massager with 8″ plastic and nylon hand massagers. Rec'd—July 12, 2005. Est. Value—$360. Location—Archives Foreign Athletic equipment: 60″ x 43″ silver-tone OSIM Fodabike Supreme collapsible bicyle with green and black rubber accents. Rec'd—July 12, 2005. Est. Value—$690. Location—Archives Foreign | His Excellency Lee Hsien Loong, Prime Minister of the Republic of Singapore | Non-acceptance would cause embarrassment to donor and U.S. Government.
President | Hardcover book: “Sadequain: The Holy Sinner,” edited by Abdul Hamid Akhund, Farida Munavarjahan Said and Zohra Yusf. Rec'd—July 14, 2005. Est. Value—$336. Location—Archives Foreign | His Excellency Pervez Musharraf, President of the Islamic Republic of Pakistan | Non-acceptance would cause embarrassment to donor and U.S. Government.
President | Household accessory: 9″ x 6″ sterling Ravissant hinged box, engraved with Mughal Byta floral designs a replication of the Diwan-e-Am in the Red Fort at Delhi. Rec'd—July 18, 2005. Est. Value—$500. Location—Archives Foreign | His Excellency Manmohan Singh, Prime Minister of the Republic of India | Non-acceptance would cause embarrassment to donor and U.S. Government.
President | Coin: 2″ 18K gold Saudia Arabia commemorative coin stamped with country emblem on one side with Arabic symbols and “HB, Peace, 1983-2005” surrounded by an image of a dove on the reverse. Rec'd—September 8, 2005. Est. Value—$1350. Location—Archives Foreign | His Royal Highness Prince Bandar bin Sultan bin Abdulaziz, Royal Embassy of the Kingdom of Saudi Arabia | Non-acceptance would cause embarrassment to donor and U.S. Government.
President | Collectables: 8″ x 4″ sterling box with hinged lid and wooden inlaid lacquered teak interior engraved with the official Seal of the Office of Thailand. Rec'd—September 19, 2005. Est. Value—$400. Location—Archives Foreign | His Excellency Thaksin Shinawatra, Prime Minister of the Kingdom of Thailand | Non-acceptance would cause embarrassment to donor and U.S. Government
President | Leather-bound book: “Holy Bible (King James Version)” with carved mother of pearl cover accented with the image of a starburst and ornate mosaic design, printed in Great Britain and held in a 9½″ x 7″ red satin lined wood box with hinged lid, covered with a veneer of mother of pearl accented with abolone image of a flower and ornate mosaic design. Rec'd—September 22, 2005. Est. Value—$500. Location—Archives Foreign Desk accessory: 9″ x 7″ photograph of President Bush and His Majesty King Abdullah II in the Oval Office; signed by donor and held in a sterling picture frame accented with the image of the royal seal of His Majesty King Abdullah II. Rec'd—September 22, 2005 Est. Value—$400. Location—Archives Foreign Collectable: cream steel dual-wheel-drive, off-road Rokon-AB23 Desert Ranger motorcycle with tow bar and trailer exclusively developed by the King Abdullah Design and Development Bureau. Rec'd—September 22, 2005. Est. Value—$4500. Location—Archives Foreign | His Majesty King Abdullah II of the Hashemite Kingdom of Jordan | Non-acceptance would cause embarrassment to donor and U.S. Government.
President | Photographs (4): Black and white photographs held in burly walnut frame, non glare glass, double matted with a cut out; 11″ x 8″ “USS Chicago, April 1894—Grand Harbour, Malta”; with a 14½″ x 16½″ cream double mat and held in a 20″ x 18″ walnut frame; 11″ x 9″ black and white photograph printed from the original glass negative depicting the “USS Raleigh, March 1899-Grand Harbour, Malta”; with a 16½″ x 14½″ double cream mat and held in an 18″ x 20″ walnut frame; 11″ x 9″ “USS Sheridan, March 1899-Grand Harbour, Malta”; with a 16½″ x 14½″ double cream mat and held in an 18″ x 20″ walnut frame; 9″ x 10″ “USS Raleigh, Malta 1899” vessel at dock and signed by the 1899 crew roster; with a 14½″ x 16½″ double cream mat and held in an 18″ x 19″ walnut frame; and 8″ x 11″ signed official letter from donor dated 3 October 2005, adorned with the official Malta Coat of Arms seal; with a 13½″ x 16½″ cream double mat and held in a 17″ x 20″ burly walnut frame. Rec'd—October 3, 2005. Est. Value—$900. Location—Archives Foreign | The Honorable Lawrence Gonzi, Prime Minister of the Republic of Malta | Non-acceptance would cause embarrassment to donor and U.S. Government.
President | Artwork: 33″ long hand carved decorated cattle horn with 30″ long woven white leather rope attached to horn. Rec'd—October 9, 2005. Est. Value—$248. Location—Archives Foreign Photograph: 8″ x 10″ of the George Washington Monument in Budapest, Hungary held in a 13¾″ x 12¼″ wooden frame. Rec'd—October 9, 2005. Est. Value—$60. Location—Archives Foreign | His Excellency Ferenc Madl, The President of the Republic of Hungary and Mrs. Madl | Non-acceptance would cause embarrassment to donor and U.S. Government.
President | Weapon: 20″ Austrian Flintock Pistol made of steel, wood, silver and inlaid with coral; handcrafted of Austrian parts assembled in Bulgaria and designed for a senior dignitary from the Ottoman empire; age described as turn of the 18th century. Rec'd—October 17, 2005. Est. Value—$650. Location—Archives Foreign Collectable: 9″ x 5″ copper with gold tone reproduction of a Rhyton cup from the 4th century BC. Rec'd—October 17, 2005. Est. Value—$75. Location—Archives Foreign Miscellaneous: white and black male, standard Bulgarian Goran Shepherd dog named “Balkan of Gorannadraganov” born on 08/21/2005. Rec'd—October 17, 2005. Est. Value—$430. Disposition—Transferred to General Services Administration Flowers (5): rooted roses. Rec'd—October 17, 2005. Est. Value—$30. Disposition—Handled pursuant to Secret Service policy. Book (printed in Bulgarian): “The Leadership Genius of George W. Bush: 10 Commonsense Lessons from the Commander in Chief,” by Carolyn B. Thompson and James W. Ware. Rec'd—October 17, 2005. Est. Value—$23. Location—Archives Foreign | His Excellency Georgi Purvanov, The President of the Republic of Bulgaria and Mrs. Purvanov | Non-acceptance would cause embarrassment to donor and U.S. Government.
President | Religious item: 15″ x 14¾″ x 2¾″ intricately carved three-dimensional rendering, with mother-of-pearl and abalone shell, of Jerusalem. Rec'd—October 20, 2005. Est. Value—$500. Location—Archives Foreign | Mr. Mahmoud Abbas, President of the Palestinian Authority | Non-acceptance would cause embarrassment to donor and U.S. Government.
President | Artwork: 30″ x 22″ intricately hand-stitched needlepoint wool tapestry of a floral arrangement embellished with leafy evergreens, daffodils, violet and bronze chrysanthemums, golden yellow gerbera daisies against an olive background; held in a round brown bowl with chocolate and salmon colored geometric design; mounted on an ornate 42″ x 34″ antique stained wood frame with coral undertones, accented with a molded gold-tone finish, embossed leaf border with corner leaf pattern and gold-tone lip. Rec'd—October 25, 2005. Est. Value—$1,300. Location—Archives Foreign | The Honorable Masoud Barzani, President of the Kurdistan Regional Government | Non-acceptance would cause embarrassment to donor and U.S. Government.
President | Jewelry: Omega “De Ville Automatic Chronometer” men's watch, with an 18kt yellow gold round case and dial, Arabic numeral hour markers, scratch-resistant sapphire crystal face, self-winding chronometer, and a brown alligator band. Rec'd—October 31, 2005. Est. Value—$3,195. Location—Archives Foreign | His Excellency Silvio Berlusconi, President of the Council of Ministers of the Italian Republic | Non-acceptance would cause embarrassment to donor and U.S. Government.
President | Books (4): navy blue leather-bound set of “The Collected Essays of Sir Winston Churchill Centenary Edition: Churchill at War, Volumes I, II, III, IV,” by Winston S. Churchill; held in a navy blue leather slipcase embossed in gold on each side with the Prince of Wales Plumes. Rec'd—November 2, 2005. Est. Value—$1,832. Location—Archives Foreign Collectable: 7″ x 7″ white fine bone china “Highgrove” cache pot designed by Jonathan Heale, with a gold-tone ribbed trim and border, accented with oak leaves and acorns, three bumble bees cascading downward on the inside brim, and the image of a black Holstein on one side and oak leaves and ivy encircling the Prince of Wales fleur de lis on the other. Rec'd—November 2, 2005. Est. Value—$83. Location—Archives Foreign | His Royal Highness Prince Charles, The Prince of Wales, K.G., K.T., G.C.B. | Non-acceptance would cause embarrassment to donor and U.S. Government.
President | Miscellaneous: 20″ x 12½″ x 5″ handcrafted cedar, fustic and mahogany hinged box by Mauricio Azeredo, with a multi-color stained contrasting horizontal line detail on the top. Rec'd—November 5, 2005. Est. Value—$400. Location—Archives Foreign | His Excellency Luis Inacio Lula da Silva, President of the Federative Republic of Brazil | Non-acceptance would cause embarrassment to donor and U.S. Government.
President | Artwork: 34½″ x 46″ oil on canvas portrait of President Bush with an American flag background; signed by artist and held in a 46″ x 58″ ornate gilt wood frame. Rec'd—November 7, 2005. Est. Value—$650. Location—Archives Foreign | His Excellency Samuel Lewis Navarro, First Vice President and Minister of Foreign Relations of the Republic of Panama | Non-acceptance would cause embarrassment to donor and U.S. Government
President | Sword: 39½″ elaborately detailed silver scabbard and hilt embellished with a 9½″ chandelier chain sheathing a 33″ steel blade. Rec'd—November 10, 2005. Est. Value—$1,500. Location—Archives Foreign | His Excellency Ali Abdullah Saleh, President of the Republic of Yemen | Non-acceptance would cause embarrassment to donor and U.S. Government
President | Collectables: three replica pieces of gold plated pewter and rhodium with colored crystals: belt buckle, hair piece and modesty disc, displayed in a 24″ x 19″ three inch wide wood with gold tone frame. (2) Gold tone plaques affixed to frame; one describing items and the other stating donor's name and date. Rec'd—November 17, 2005. Est. Value—$550. Location—Archives Foreign | His Excellency Yab Datuk Seri Utama Abdullah bin Haji Ahmad Badawi, Prime Minister of Malaysia | Non-acceptance would cause embarrassment to donor and U.S. Government.
President | Desk accessory: 7″ silver plated desk clock.Rec'd—November 17, 2005. Est. Value—$36. Location—Archives Foreign | His Excellency Nestor Carlos Kirchner, President of the Argentine Nation | Non-acceptance would cause embarrassment to donor and U.S. Government
| CDs: (4) Tango: Carlos Gardel, Osvaldo Pugliese, Astor Piazzolla, and Anibal Troilo. Rec'd—November 17, 2005. Est. Value—$60. Location—Archives Foreign
| Miscellaneous: 24″ x 12″ brown leather duffle travel bag with shoulder strap and brass feet. Rec'd—November 17, 2005. Est. Value—$375. Location—Archives Foreign
President | Miscellaneous (2): 56″ x 72″ navy blue silk, 18 black buttons; fifteen ¼″, three ½″ held in a 9½″ x 11½″ brown wood hinged box, and 56″ x 72″ cashmere wool, black with white pinstrips held in a 17″ x 9½″ brown hinged box. Rec'd—November 18, 2005. Est. Value—$210. Location—Archives Foreign | His Excellency Roh Moo-hyun, President of the Republic of Korea and Mrs. Kwon Yang-suk | Non-acceptance would cause embarrassment to donor and U.S. Government
President | Miscellaneous (6): lengths of matching cream and gold brocade pattern silk with green and pink accents: 22″ x 240″; 41″ x 77″; 41″ x 114″; 32″ x 68″; 32″ x 32″ and 12″ x 68″. Rec'd—November 18, 2005. Est. Value—$442. Location—Archives Foreign | His Majesty Sultan Haji Hassanal Bolkiah Mu'izzaddin Waddaulah Sultan and Yang Di-Pertuan of Brunei Darussalam | Non-acceptance would cause embarrassment to donor and U.S. Government.
President | Miscellaneous: 5″ x 6″ black Swarovski Optik SLC 7 x 42 waterproof binoculars. Rec'd—December 8, 2005. Est. Value—$1,030. Location—Archives Foreign | His Excellency Wolfgang Schuessel, Chancellor of the Republic of Austria | Non-acceptance would cause embarrassment to donor and U.S. Government
President | Game: Shut-the-Box by Front Porch Classics. Rec'd—December 29, 2005. Est. Value—$50. Location—Archives Foreign | His Majesty Sultan Haji Hassanal Bolkiah Mu'izzaddin Waddaulah Sultan and Yang Di-Pertuan of Brunei Darussalam | Non-acceptance would cause embarrassment to donor and U.S. Government.
| Household accessory: 9″ x 4½″ Faberge gold rimmed crystal vase etched with a floral pattern. Rec'd—December 29, 2005. Est. Value—$350. Location—Archives Foreign
| Household: 5¼″ x 3″ stainless steel Stella “Arianna” expresso coffee pot. Rec'd—December 29, 2005. Est. Value—$60. Location—Archives Foreign
| Miscellaneous: 42″ x 30″ natural tone cashmere throw with herringbone stripes. Rec'd—December 29, 2005. Est. Value—$754. Location—Archives Foreign
| Household: 7″ x 6½″ sterling ice bucket with hinge lid attached to an 8″ round plate with elaborate edge and ¾″ feet. Rec'd—December 29, 2005. Est. Value—$500. Location—Archives Foreign
| Furniture: 38″ x 20″ x 19″ wicker chest with carved wood striped design, a wood back, bronze tone metal latch and black metal handles on sides. Rec'd—December 29, 2005. Est. Value—$200. Location—Archives Foreign
| Consumables: assorted gourmet products including peanuts, cookies, coffee, peanut butter, a biscotti sampler, almond nut spread, snack mixes, chocolates, a bottle of red wine. Rec'd—December 29, 2005. Est. Value—$300.Disposition—Handled pursuant to Secret Service Policy
First Lady | Artwork: 35″ x 28″ limited edition (7/7) print of a watercolor and pen and ink drawing of a woman with large multi-colored hat, a dog, and a man playing a musical instrument; matted and held in a bronze metal frame. Rec'd—March 4, 2005. Est. Value—$1,200. Location—Archives Foreign | His Excellency Ivan Gasparovic, President of the Slovak Republic and Mrs. Gasparovicova | First Lady.
First Lady | Hardcover book (in German): “Kunstlerin und Naturforscherin (Art and Nature),” by Maria Sibylla Merian. Rec'd—March 4, 2005. Est. Value—$28. Location—Archives Foreign | The Honorable Kurt Beck, Minister-President of Rhineland-Palatinate | First Lady.
| Artwork: 13″ x 11″ copy of a copper etching, by Maria Sibylla Merian, of various wildflowers; matted and held in a black and gold-tone frame. Rec'd—March 4, 2005. Est. Value—$600. Location—Archives Foreign
| Desk accessory: 18″ x 13″ red leather Bermas briefcase with combination locks. Rec'd—March 4, 2005. Est. Value—$325. Location—Archives Foreign
First Lady | Hardcover book: “Caral: The City of Sacred Fire,” by Ruth Shady Solis. Rec'd—March 9, 2005. Est. Value—$75. Location—Archives Foreign | Mrs. Eliane Karp de Toledo, The First Lady of the Republic of Peru | First Lady.
| Softcover book (in Spanish and English): “Serpiente de Agua: La Vida Indigena en la Amazonia (Water Snake: The Indigenous Life in the Amazon),” by Gredna Landolt and Alexandre Surrales. Rec'd—March 9, 2005. Est. Value—$35. Location—Archives Foreign
| Photographs: 12″ x 9″ brown leather photograph album embossed “Divina Y Humana: La Mujer en el Peru y Mexico Antiguos (Divine and Human: The Old Woman in Peru and Mexico), Eliane Karp de Toledo, Maria Sahagun de Fox, Lima, Noviembre 2004-Abril 2005, Ciudad de Mexico, Mayo-Octubre 2005” containing photographs from the Divine and Human Exhibit in Peru and Mexico. Rec'd—March 9, 2005. Est. Value—$228. Location—Archives Foreign
| Household accessory: 7″ x 6″ sterling hinged box with a woven cloth inset in glass lid and a presentation plate inside engraved “For Mrs. Laura Bush, In Appreciation of the Continuous Friendship of Our People, Eliane K. Toledo, First Lady of Peru, Washington, D.C., 25 February, 2005.”Rec'd—March 9, 2005. Est. Value—$400. Location—Archives Foreign
First Lady | Clothing: red, green, pink, blue, and gold traditional Afghan dress embroidered with ornate gold patterns and intricate seed beadwork. Rec'd—March 30, 2005. Est. Value—$300. Location—Archives Foreign Accessory: 35″ x 65″ pink, purple, gold, and green silk shawl with a 2″ gold fringe. Rec'd—March 30, 2005. Est. Value—$35. Location—Archives Foreign Accessory: green and gold polyester traditional shawl embroidered with an ornate pattern on the sleeves. Rec'd—March 30, 2005. Est. Value—$25. Location—Archives Foreign | Dr. Zinat Karzai, Office of the President of the Islamic State of Afghanistan | Non-acceptance would cause embarrassment to donor and U.S. Government.
First Lady | Household accessory: 8″ x 12″ lapis lazuli candelabra. Rec'd—March 30, 2005. Est. Value—$750. Location—Archives Foreign Household item: 73″ x 46″ hand knotted silk pile rug with 4″ fringe; medallion style design in red, blue, white, orange and green. Rec'd—March 30, 2005. Est. Value—$400. Location—Archives Foreign | His Excellency Hamid Karzai, President of the Islamic Republic of Afghanistan | Non-acceptance would cause embarrassment to donor and U.S. Government.
First Lady | Jewelry: 22″ hexagonal amber bead necklace. Rec'd—April 4, 2005. Est. Value—$175. Location—Archives Foreign Household accessory: 12″ x 5″ x 4″ dark carved wood jewelry box inlaid with jade and amethyst. Rec'd—April 4, 2005. Est. Value—$250. Location—Archives Foreign | His Excellency Viktor Yushchenko, President of Ukraine | Non-acceptance would cause embarrassment to donor and U.S. Government.
First Lady | Accessory: 96″ x 18″ purple and brown linen loosely woven shawl embroidered with small loops and a 4″ fringe. Rec'd—May 6, 2005. Est. Value—$305. Location—Archives Foreign | Her Excellency Vaira Vike-Freiberga, President of the Republic of Latvia and Dr. Imants Freibergs | Non-acceptance would cause embarrassment to donor and U.S. Government.
First Lady | Jewelry: 7″ 18kt gold link bracelet with cabochon garnets and quartz and small freshwater pearl accents. Rec'd—May 18, 2005. Est. Value—$750. Location—Archives Foreign Jewelry: 2¼″ gold-plated silver pectoral cross of Queen Tamara inlaid with freshwater pearls and glass stones. Rec'd—May 18, 2005. Est. Value—$30. Location—Archives Foreign Paperback book: “Sandra Elisabeth Roelofs: De first lady van Georgie,” inscribed by donor. Rec'd—May 18, 2005. Est. Value—$25. Location—Archives Foreign | Mrs. Sandra Elisabeth Roelofs, Office of the President of Georgia | Non-acceptance would cause embarrassment to donor and U.S. Government.
First Lady | Accessory: 11″ x 5″ tan rattan and green leather clutch. Rec'd—May 25, 2005. Est. Value—$100. Archives Foreign Accessories (2): 34″ x 86″ multi-colored silk floral print shawl with black fringe. Rec'd—May 25, 2005. Est. Value—$230. Location—Archives Foreign | Mrs. Kristiani Herawati, c/o The President of the Republic of Indonesia | Non-acceptance would cause embarrassment to donor and U.S. Government.
First Lady | Hardcover book: “100 Years of Palestinian History: A 20th Century Chronology,” published by the Palestinian Academic Society for the Study of International Affairs, Jerusalem. Rec'd—June 3, 2005. Est. Value—$150. Location—Archives Foreign Accessory: 14″ x 10″ beige velour tote bag with traditional embroidered design on one side. Rec'd—June 3, 2005. Est. Value—$190. Location—Archives Foreign | Her Excellency Hind Khoury, Minister of State, Palestinian National Authority | Non-acceptance would cause embarrassment to donor and U.S. Government.
First Lady | Miscellaneous: 17½″ x 13″ set of wood doors with an intricately carved floral design. Rec'd—June 8, 2005. Est. Value—$425. Location—Archives Foreign | The Honorable Haroun Ali Suleiman, Minister of Education, Culture, and Sports of the Revolutionary Government of Zanzibar | Non-acceptance would cause embarrassment to donor and U.S. Government.
First Lady | Household accessory: 6″ x 8″ beige and yellow whagagwhado mirror box by Han Chun-seop printed with peacocks standing against floral backdrop; interior is finished in gold brocade cloth. Rec'd—June 10, 2005. Est. Value—$850. Location—Archives Foreign | His Excellency Roh Moo-hyun, President of the Republic of Korea and Mrs. Kwon Yang-suk | Non-acceptance would cause embarrassment to donor and U.S. Government.
First Lady | Artwork: 15″ x 13″ hand-molded traditional Zulu ceramic urn embellished with raised and incised designs; signed and dated by Clive Sithole. Rec'd—July 11, 2005. Est. Value—$1,750. Location—Archives Foreign | Mrs. Zanele Mbeki, Office of the President of the Republic of South Africa | Non-acceptance would cause embarrassment to donor and U.S. Government.
First Lady | Household accessory: 37″ x 19″ hand-carved wooden chest with hinged lid constructed with intricate floral design and finely detailed brass border with three drawers along bottom. Rec'd—July 14, 2005. Est. Value—$3,500. Location—Archives Foreign | His Excellency Amani Abeid Karume, The President of the Revolutionary Government of Zanzibar and Mrs. Shadya Karume | Non-acceptance would cause embarrassment to donor and U.S. Government.
First Lady | Artwork: 27″ x 39″ wooden portrait of Mrs. Bush, held in a 31″ x 42″ carved wood frame. Rec'd—July 14, 2005. Est. Value—$1,750. Location—Archives Foreign Household accessory: 16″ yellow linen napkins (12) embroidered with a various safari wildlife; woven tan and black napkin rings (12); and a 63″ yellow table cloth embroidered with various safari wildlife. Rec'd—July 14, 2005. Est. Value—$150. Location—Archives Foreign | His Excellency Paul Kagame, The President of the Republic of Rwanda and Mrs. Kagame | Non-acceptance would cause embarrassment to donor and U.S. Government.
First Lady | Household accessory: 7″ sterling Ravissant lidded dish with intricate quilted design. Rec'd—July 18, 2005. Est. Value—$350. Location—Archives Foreign | His Excellency Manmohan Singh, Prime Minister of the Republic of India | Non-acceptance would cause embarrassment to donor and U.S. Government.
First Lady | Jewelry: 17½″ gold-tone handmade traditional Kurdish necklace with an oval-shaped pink tourmaline surrounded by seed pearls and turquoise, accented with delicate cascading gold-tone stamped disks and seed pearls; engraved H. Sul Kurdstan on reverse. Rec'd—September 12, 2005. Est. Value—$1,900. Location—Archives Foreign | Mrs. Hero Ibrahim Ahmed, c/o The President of the Transitional Government of the Republic of Iraq | Non-acceptance would cause embarrassment to donor and U.S. Government.
First Lady | Accessories (2): Hermes style leather handbags; 17″ x 11″ x 6″ tan travel bag and 13″ x 11″ x 4″ red handbag. Rec'd—November 3, 2005. Est. Value—$420. Location—Archives Foreign Book: coffee table “Memoria y Presente del Ballet del Teatro Colon 1925-2005”. Rec'd—November 3, 2005. Est. Value—$75. Location—Archives Foreign Artwork: 15½″ x 11″ Serigraphy (silk screen print) of two unclothed people held in a 4″ pale green mat. Rec'd—November 3, 2005. Est. Value—$50. Location—Archives Foreign Pin: small silver pin in the shape of a sun ray. Rec'd—November 3, 2005. Est. Value—$10. Location—Archives Foreign | Mrs. Cristina Kirchner, First Lady of the Argentine Nation | Non-acceptance would cause embarrassment to donor and U.S. Government.
First Lady | Household items (2): 8″ handcrafted chocolate brown glazed porcelain bowls by Rosa Maria Piatti accented with a contrasting black, orange, white and taupe abstract stripe design; signed on the bottom. Rec'd—November 5, 2005. Est. Value—$175. Location—Archives Foreign Household item: 19½″ x 12″ handcrafted black wooden modern platter mounted on two 13½″ beams by Rosa Maria Piatti, accented with a light brown abstract grid design; signed on the bottom. Rec'd—November 5, 2005. Est. Value—$150. Location—Archives Foreign | Mrs. Marisa Lula da Silva, c/o of The President of the Federative Republic of Brazil | Non-acceptance would cause embarrassment to donor and U.S. Government.
First Lady | Jewelry: 3½″ silver and coral drop chandelier earrings; 6½″ silver and coral link bracelet; sized round tiered silver ring with a round coral bead with silver diamond pattern in the center; 6″ x 18″ silver and coral necklace with nine silver drop strands. Rec'd—November 10, 2005. Est. Value—$500. Location—Archives Foreign | His Excellency Ali Abdullah Saleh, President of the Republic of Yemen | Non-acceptance would cause embarrassment to donor and U.S. Government.
First Lady | Artwork: 21″ x 17″ oil painting of “Nomin”, a typical Mongolian girl held in a beveled 3” wide gold tone wooden frame. Rec'd—November 21, 2005. Est. Value—$800. Location—Archives Foreign | His Excellency Nambaryn Enkhbayar, President of Mongolia | Non-acceptance would cause embarrassment to donor and U.S. Government.
First Lady | Consumables: large assortment of Godiva chocolates held in an oval-shaped woven basket. Rec'd—November 7, 2005. Est. Value—$1,129. Disposition—Transferred to Department of the Army/Reported to General Services Administration Flowers: large arrangement of long-stemmed yellow roses held in a square-shaped glass vase. Rec'd—November 7, 2005. Est. Value—$345. Disposition—Transferred to Charity/Reported to General Services Administration | His Majesty Mohammed, VI, King of Morocco | Non-acceptance would cause embarrassment to donor and U.S. Government.
First Family | Photograph: 5″ x 7″ photograph of donors; signed, matted and held in a red leather frame embossed with the royal crest of Norway. Rec'd—March 7, 2005. Est. Value—$61. Location—Archives Foreign Household accessory: 10″ x 6″ Ulla-Mari Brantenberg blue and charcoal frosted glass abstract vase with polka dots. Rec'd—March 7, 2005. Est. Value—$277. Location—Archives Foreign | His Majesty King Harald V and Her Majesty Queen Sonja, Their Majesties The King and Queen of Norway | Non-acceptance would cause embarrassment to donor and U.S. Government.
First Family | Household accessory: 23″ black, yellow, red, and green round wooden platter painted with a rooster and a floral pattern. Rec'd—April 4, 2005. Est. Value—$117. Location—Archives Foreign | His Excellency Viktor Yushchenko, President of Ukraine | Non-acceptance would cause embarrassment to donor and U.S. Government.
First Family | Crafts (3): 8″ and 6″ dark gray abstract pottery sheep (2); and 7″ x 4″ red ceramic wall plaque with a cut-out of a heart and stamped with a star. Rec'd—April 11, 2005. Est. Value—$179. Location—Archives Foreign | His Excellency Ariel Sharon, Prime Minister of Israel | Non-acceptance would cause embarrassment to donor and U.S. Government.
First Family | Household items (2): pair of 6″ footed porcelain candlesticks handpainted with a floral and latice design. Rec'd—May 8, 2005. Est. Value—$1,130. Location—Archives Foreign | Her Majesty Beatrix, Queen of the Netherlands | Non-acceptance would cause embarrassment to donor and U.S. Government.
First Family | Hardcover book: “Pasiphae,” by Algernon Charles Swinburne. Rec'd—May 8, 2005. Est. Value—$175. Location—Archives Foreign Paperback book: “Sonnets and Songs, Towards A Work to Be Called ‘The House of Life’,” by Dante Gabriel Rossetti. Rec’d—May 8, 2005. Est. Value—$111. Location—Archives Foreign Consumable: 10″ Chateau D'Or cream candle printed with an angel. Rec'd—May 8, 2005. Est. Value—$25. Disposition—Handled pursuant to Secret Service policy Consumable: bottle of Maestricht merlot. Rec'd—May 8, 2005. Est. Value—$20. Disposition—Handled pursuant to Secret Service policy | The Honorable Gerd B.M. Leers, Mayor of Maastricht, Netherlands | Non-acceptance would cause embarrassment to donor and U.S. Government.
First Family | Tea set: 5″ x 5″ wooden handled silver tea pot with modern hammered copper design and strainer accompanying a 10″ x 10″ wooden handled tray inlaid with a 4″ x 6″ silver center. Rec'd—October 12, 2005. Est. Value—$500. Location—Archives Foreign | His Excellency Aleksander Kwasniewski, President of the Republic of Poland | Non-acceptance would cause embarrassment to donor and U.S. Government.
First Family | Consumables: 12 assorted boxes of Yemen coffee, 8 jars of honey. Rec'd—November 10, 2005. Est. Value—$192. Disposition—Transferred to Charity/Reported to General Services Administration Clothing (2): 46″ x 100″ traditional multi-color pastel hand-woven shawl and a 70″ x 52″ traditional primary multi-color hand-woven shawl. Rec'd—November 10, 2005. Est. Value—$158. Location—Archives Foreign | His Excellency Ali Abdullah Saleh, President of the Republic of Yemen | Non-acceptance would cause embarrassment to donor and U.S. Government.
First Family | Miscellaneous (2): Samsung MP3 Digimax i50 cameras. Rec'd—November 18, 2005. Est. Value—$804. Location—Archives Foreign | His Excellency Roh Moo-hyun, President of the Republic of Korea and Mrs. Kwon Yang-suk | Non-acceptance would cause embarrassment to donor and U.S. Government.
First Family | Consumable: large box of Tunisian dates. Rec'd—December 15, 2005. Est. Value—$60. Disposition—Handled pursuant to Secret Service policy Consumables (8): liter bottles of Tunisian olive oil. Rec'd—December 15, 2005. Est. Value—$28. Disposition—Handled pursuant to Secret Service policy Consumables (8): bottles of wine. Rec'd—December 15, 2005. Est. Value—$64. Disposition—Handled pursuant to Secret Service policy Household: 20 ½″ x 14″ red leather lidded ottoman chest covered with an intricate white geometic pattern, holding two matching red leather serving trays. Rec'd—December 15, 2005. Est. Value—$280. Location—Archives Foreign | His Excellency Zine El-Abidine Ben Ali, President of the Republic of Tunisia | Non-acceptance would cause embarrassment to donor and U.S. Government.
Elliott Abrams, Deputy Assistant to the President and Deputy National Security Advisor for Global Democracy | Sword: 27″ silver saber with curved blade and scabard with elaborate detailing and amber stones. Rec'd—November 10, 2005. Est. Value—$1,000. Disposition—Transferred to the General Services Administration, Government Property | His Excellency Ali Abdullah Saleh, President of the Republic of Yemen | Non-acceptance would cause embarrassment to donor and U.S. Government.
Judith Ansley, Special Assistant to the President and Senior Director for European Affairs | Accessories (2): 35″ E. Marinella silk scarves; one design on light blue background with dark blue center and border decorated with assorted drying vegetables in harvest colors of green, red, orange, brown and white; one design on white background with light beige and apricot border, center is bouquet of blue, brown, tan and apricot roses and lavender strands of “pearls”. Rec'd—November 3, 2005. Est. Value—$320. Disposition—Transferred to the General Services Administration, Government Property | His Excellency Silvio Berlusconi, President of the Council of Ministers of the Italian Republic | Non-acceptance would cause embarrassment to donor and U.S. Government.
Andrew H. Card Jr., Assistant to the President and Chief of Staff | Coin: 2⅜″ gold-plated pure silver medal commemorating Summit; obverse, relief of “Bush-Putin Slovakia Summit 2005” with flags of the three nations; reverse “Slovenska Republiks Bratislava 24.2.2005” and relief of state building. Rec'd—February 24, 2005. Est. Value—$75. Location—Personally Retained by the Staff Member Stamps: Commemorative portfolio of stamp and postmark issued for “Slovakia Summit 2005, Bratislava 1 24.2.2005”. Rec'd—February 24, 2005. Est. Value—$2. Location—Personally Retained by the Staff Member Desk accessory: 15¾″ x 11¾″ x 2″ Romelon black leather, gold silk lined briefcase by G. Peppers; four zipper pouches, leather shoulder strap, dull nickel hardward and combination lock, embossed with “Bush-Putin Slovakia Summit 2005” logo. Rec'd—February 24, 2005. Est. Value—$250. Disposition—Transferred to the General Services Administration, Government Property | Bush-Putin Slovakia Summit, February 23-25, 2005 | Non-acceptance would cause embarrassment to donor and U.S. Government.
Andrew H. Card Jr., Assistant to the President and Chief of Staff | Accessories (5): variety of E. Marinella silk twill ties with various geometric patterns; one red tie with navy, light blue and pale yellow accent, black tie with light blue and white accent, one maroon tie with blue and gold accent, navy blue tie with light blue accent and navy blue tie with red. Rec'd—November 3, 2005. Est. Value—$825. Disposition—Transferred to the General Services Administration, Government Property Accessory: E. Marinella silk twill royal blue tie with beige and white geometric pattern. Rec'd—November 3, 2005. Est. Value—$165. Location—Personally Retained by the Staff Member | His Excellency Silvio Berlusconi, President of the Council of Ministers of the Italian Republic | Non-acceptance would cause embarrassment to donor and U.S. Government.
Cindy L. Courville, Special Assistant to the President and Senior Director | Artwork: 39″ x 39″ framed canvas oil painting of two young African boys sitting in a hut on a cinderblock with sunset in background; signed Bomgesa 2004. Rec'd—March 22, 2005. Est. Value—$500. Disposition—Transferred to the General Services Administration, Government Property | His Excellency Antoine Ghonda, Ambassador-at-Large, Office of the President of the Democratic Republic of the Congo | Non-acceptance would cause embarrassment to donor and U.S. Government.
Cindy L. Courville, Special Assistant to the President and Senior Director | Artwork: 15¾″ x 5″ x 6½″ stone sculpture of Gabonese woman holding a basket of fruit and vegetables; artwork studded with 5/16″ x 3/16″ gold tone ovals; woman wearing a ⅞″ x ⅛″ goldtone pendant on a black rope weave necklace; 5⅝″ x 5¼″ x 1½″ wood base with 2½″ x 1″ brass plaque engraved “Pierre De Mbigou Du Gabon Offert Par Son Excellence El Hadj Omar Bongo.” Rec'd—January 13, 2005. Est. Value—$1,100. Disposition—Transferred to the General Services Administration, Government Property | His Excellency El Hadj Omar Bongo Ondimba, President of the Gabonese Republic | Non-acceptance would cause embarrassment to donor and U.S. Government.
Michael Doran, Senior Director for Near East and North African Affairs | Knife: 21½″ elaborately detailed silver scabbard and hilt sheathing a 5½″ steel blade; scabard had green inset. Rec'd—November 10, 2005. Est. Value—$500. Disposition—Transferred to the General Services Administration, Government Property | His Excellency Ali Abdullah Saleh, President of the Republic of Yemen | Non-acceptance would cause embarrassment to donor and U.S. Government.
Daniel Fred, Special Assistant to the President and Senior Director Europe | Accessories (2): E. Marinella silk twill necktie—alternating light blue and medium blue daisy pattern on red background and alternating light blue squares and diamonds and clubs on a navy blue background. Rec'd—February 14, 2005. Est. Value—$310. Disposition—Transferred to the General Services Administration Accessory: E. Marinella silk necktie—alternating pattern of light blue, brown and red daisies and white diamonds with blue centers on royal blue background. Rec'd—February 14, 2005. Est. Value—$155. Location—Personally Retained by the Staff Member | His Excellency Silvio Berlusconi, President of the Council of Ministers of the Italian Republic | Non-acceptance would cause embarrassment to donor and U.S. Government.
Stephen Hadley, Assistant to the President for National Security Affairs | Coin: 2⅜″ gold-plated pure silver medal commemorating Summit; obverse, relief of “Bush Putin Slovakia Summit 2005” with flags of the three nations; reverse “Slovenska Republiks Bratislava 24.2.2005” and relief of state building. Rec'd—February 24, 2005. Est. Value—$75. Disposition—Archives, Staff Gift Stamps: commemorative navy leather portfolio of stamp and postmark issued for “Slovakia Summit 2005, Bratislava 1 24.2.2005”. Rec'd—February 24, 2005. Est. Value—$2. Disposition—Archives, Staff Gift Desk accessory: 15¾″ x 11¾″ x 2″ Romelon black leather, gold silk lined briefcase by G. Peppers; four zipper pouches, leather shoulder strap, dull nickel hardware and combination lock, embossed with “Bush-Putin Slovakia Summit 2005” logo. Rec'd—February 24, 2005. Est. Value—$250. Disposition—Archives, Staff Gift | Bush-Putin Slovakia Summit, February 23-25, 2005 | Non-acceptance would cause embarrassment to donor and U.S. Government.
Stephen Hadley, Assistant to the President for National Security Affairs | Desk accessories (2): 8½″ letter opener and 6¼″ magnifying glass; handles of mother of pearl and ornate sterling design. Rec'd—March 23, 2005. Est. Value—$337. Disposition—Archives, Staff Gift | His Majesty King Abdullah II of the Hashemite Kingdom of Jordan | Non-acceptance would cause embarrassment to donor and U.S. Government.
Stephen Hadley, Assistant to the President for National Security Affairs | Household accessory: 8¼″ x ¾″ sterling plate engraved with donor's name, title, signature and seal. Rec'd—March 24, 2005. Est. Value—$350. Disposition—Transferred to the General Services Administration, Government Property | His Excellency Petros Molyviatis, Minister of Foreign Affairs of the Hellenic Republic | Non-acceptance would cause embarrassment to donor and U.S. Government.
Stephen Hadley, Assistant to the President for National Security Affairs | Household accessories (2): 4½″ x 1¼″ hammered sterling bowls. Rec'd—April 14, 2005. Est. Value—$600. Disposition—Transferred to the General Services Administration, Government Property | His Excellency Natwar Singh, Minister of External Affairs of The Republic of India | Non-acceptance would cause embarrassment to donor and U.S. Government.
Stephen Hadley, Assistant to the President for National Security Affairs | Plaque: 11″ pure silver plate, relief design depicting Hoan Kiem Lake by Nguyen Ngoc Khuong; 3¼″ x ⅝″ brass presentation plaque engraved “With the Compliments from H. E. Mr. Phan Van Khai, Prime Minister of the Socialist Republic of Vietnam.” Rec'd—July 5, 2005. Est. Value—$400. Disposition—Transferred to the General Services Administration, Government Property | His Excellency Phan Van Khai, Prime Minister of the Socialist Republic of Vietnam | Non-acceptance would cause embarrassment to donor and U.S. Government.
Stephen Hadley, Assistant to the President for National Security Affairs | Artwork: 13″ x 15″ x 5″ two piece brass equestrian sculpture; horse and rider carrying spear. Rec'd—July 14, 2005. Est. Value—$2,500. Disposition—Transferred to the General Services Administration, Government Property | His Excellency Ephraim Inoni, Prime Minister of the Republic of Cameroon | Non-acceptance would cause embarrassment to donor and U.S. Government.
Stephen Hadley, Assistant to the President for National Security Affairs | Artwork: 5⅞″ x 8⅞″ colorful painting of nine regal men surrounding an enthroned man in a palatial setting; held in a 15″ x 18″ gold gilt ornate wood framed with double cut ivory mat. Rec'd—July 18, 2005. Est. Value—$400. Disposition—Transferred to the General Services Administration, Government Property | His Excellency Manmohan Singh, Prime Minister of the Republic of India | Non-acceptance would cause embarrassment to donor and U.S. Government.
Stephen Hadley, Assistant to the President for National Security Affairs | Collectable item: 10″ gold lacquer and gold leaf Mainstream Sculpture plate “The Picture of Eagle's Power,” by Jinli Shen. Rec'd—August 8, 2005. Est. Value—$350. Disposition—Transferred to the General Services Administration, Government Property | His Excellency Tang Jiaxuan, State Councilor of the State Council of the People's Republic of China | Non-acceptance would cause embarrassment to donor and U.S. Government.
Stephen Hadley, Assistant to the President for National Security Affairs | Desk accessories (2): 6″ x 5½″ x 1″ desk note pad holder with a hinged “Kuhn” sterling picture frame lid with gold crown and a 5″ sterling and leather ballpoint pen printed in silver with crown and donor's name; frame holds a print of the Monastery at Petra; held in a white satin lined blue velvet latched. Rec'd—September 19, 2005. Est. Value—$345. Disposition—Transferred to the General Services Administration, Government Property | His Majesty King Abdullah II, of the Hashemite Kingdom of Jordan | Non-acceptance would cause embarrassment to donor and U.S. Government.
Stephen Hadley, Assistant to the President for National Security Affairs | Household item: 6′8″ x 9′6″ wool Afghani rug; apricot and black guls on a rust field. Rec'd—September 25, 2005. Est. Value—$1,800. Disposition—Transferred to the General Services Administration, Government Property | His Excellency Hamid Karzai, President of the Islamic Republic of Afghanistan | Non-acceptance would cause embarrassment to donor and U.S. Government.
Stephen Hadley, Assistant to the President for National Security Affairs | Household item: 5′ x 7′ wool Afghani “children's” rug, apricot, black and brown floral design on dark red field. Rec'd—September 25, 2005. Est. Value—$1,200. Disposition—Transferred to the General Services Administration, Government Property | His Excellency Zalmai Rassoul, National Security Advisor of the Islamic Republic of Afghanistan | Non-acceptance would cause embarrassment to donor and U.S. Government.
Stephen Hadley, Assistant to the President for National Security Affairs | Household item: 4′4″ x 6′ wool Afghani rug, red and blue design on apricot field. Rec'd—September 25, 2005. Est. Value—$800. Disposition—Transferred to the General Services Administration, Government Property | His Excellency Abdul Rahim Wardak, Minister of Defense of the Islamic Republic of Afghanistan | Non-acceptance would cause embarrassment to donor and U.S. Government.
Stephen Hadley, Assistant to the President for National Security Affairs | Accessories (6): variety of E. Marinella silk twill ties with various geometric patterns; one navy blue and two maroon ties with blue and white accent, black tie with blue accent, navy blue tie with blue, yellow, red and green accent, light blue tie with green, red and yellow accent. Rec'd—November 3, 2005. Est. Value—$990. Disposition—Transferred to the General Services Administration, Government Property | His Excellency Silvio Berlusconi, President of the Council of Ministers of the Italian Republic | Non-acceptance would cause embarrassment to donor and U.S. Government.
Stephen Hadley, Assistant to the President for National Security Affairs | Sword: 29″ silver saber with curved blade and scabbard with elaborate detailing and amber stones. Rec'd—November 10, 2005. Est. Value—$1,000. Disposition—Transferred to the General Services Administration, Government Property | His Excellency Ali Abdullah Saleh, President of the Republic of Yemen | Non-acceptance would cause embarrassment to donor and U.S. Government.
Scott McClellan, Assistant to the President and Press Secretary | Accessories (5): variety of E. Marinella silk twill ties with various geometric patterns; red tie with blue and gold accent, navy blue tie with brown and light blue accent, navy blue tie with blue, yellow, and pale green accent, black tie with red accent and navy blue tie with beige accent. Rec'd—November 3, 2005. Est. Value—$825. Disposition—Transferred to the General Services Administration, Government Property. Accessory: E. Marinella silk twill red tie with blue and white geometric pattern. Rec'd—November 3, 2005. Est. Value—$165. Location—Personally Retained by the Staff Member | His Excellency Silvio Berlusconi, President of the Council of Ministers of the Italian Republic | Non-acceptance would cause embarrassment to donor and U.S. Government.
Nikhil N. Ramchard, Director, Persian Gulf Affairs | Knfe: 21½″ elaborately detailed silver scabbard and hilt sheathing a 5½″ steel blade. Rec'd—November 10, 2005. Est. Value—$500. Disposition—Transferred to the General Services Administration, Government Property | His Excellency Ali Abdullah Saleh, President of the Republic of Yemen | Non-acceptance would cause embarrassment to donor and U.S. Government.
Scott N. Sforza, Deputy Assistant to the President and Deputy Director of Communications for Production | Desk accessories (2): Nino Cerruti designed pen set “ebonite noir with Iridium point” 5¼″ black and silver fountain pen and 5¼″ ballpoint pen, held in black leather box with royal crest. Rec'd—March 15, 2005. Est. Value—$408. Disposition—Transferred to the General Services Administration, Government Property | His Majesty King Abdullah II of the Hashemite Kingdom of Jordan | Non-acceptance would cause embarrassment to donor and U.S. Government.
Kurt Volker, Director, European and Eurasian Affairs | Accessories (2): E. Marinella silk twill neckties—alternating gold and blue squares on maroon background and light blue daisies and gold and brown squares pattern on navy blue background. Rec'd—February 14, 2005. Est. Value—$310. Disposition—Transferred to the General Services Administration. Accessory: E. Marinella silk necktie—small alternating blue, red and yellow circles pattern on navy blue background. Rec'd—February 14, 2005. Est. Value—$155. Location—Personally Retained by the Staff Member | His Excellency Silvio Berlusconi, President of the Council of Ministers of the Italian Republic | Non-acceptance would cause embarrassment to donor and U.S. Government.

AGENCY: Vice President
[Report of Tangible Gifts]
Name and title of person accepting the gift on behalf of the U.S. Government | Gift, date of acceptance on behalf of the U.S. Government, estimated value, and current disposition or location | Identity of foreign donor and government | Circumstances justifying acceptance
Vice President and Mrs. Cheney | Fitted wooden box filled with toiletry items, candy, candles, silver-plated vases, handmade paper journals, a silver brooch, and a square Rosenthal china plate. Rec'd—January 5, 2005. Est. Value—$850. Location—Archives Foreign | His Majesty King Abdullah II bin al Hussein of the Hashemite Kingdom of Jordan | Non-acceptance would cause embarrassment to donor and U.S. Government.
Vice President and Mrs. Cheney | Wool on cotton carpet, measuring 77 inches by 61 inches, rust background with cruciform stylized foliate medallion, three borders with yellow main. Rec'd—January 27, 2005. Est. Value—$1,000. Location—Transferred to General Services Administration Wool on cotton carpet, measuring 78 inches by 57 inches, yellow background with red, tan and green stylized floral decoration, four borders with rose main. Rec'd—January 27, 2005. Est. Value—$1,000. Location—Transferred to General Services Administration Embroidered beige cotton tablecloth and 12 napkins. Rec'd—January 27, 2005. Est. Value—$150. Location—Archives Foreign | His Excellency Hamid Karzai, President of the Islamic Republic of Afghanistan | Non-acceptance would cause embarrassment to donor and U.S. Government.
Vice President | Sterling silver and gold Mate set, handcrafted by Argentinean silversmith Pallarols and a hardcover book about Mate in the Americas. Rec'd—February 7, 2005. Est. Value—$708. Location—Archives Foreign | His Excellency Daniel O. Scioli, Vice President of the Argentine Nation | Non-acceptance would cause embarrassment to donor and U.S. Government.
Vice President | Celadon vase. Rec'd—March 9, 2005. Est. Value—$350. Location—Archives Foreign | The Honorable Won-Ki Kim, Speaker of the National Assembly Republic of Korea | Non-acceptance would cause embarrassment to donor and U.S. Government.
Vice President | Framed seascape by Ukrainian artist. Rec'd—April 5, 2005. Est. Value—$650. Location—Archives Foreign | His Excellency Viktor Yushchenko, President of Ukraine | Non-acceptance would cause embarrassment to donor and U.S. Government.
Mrs. Cheney | Hand painted Ukrainian egg and hardcover book about Ukraine. Rec'd—April 5, 2005. Est. Value—$90, Location—Archives Foreign Large embroidered velvet pillow Rec'd—April 5, 2005. Est. Value—$80. Location—Archives Foreign | His Excellency Viktor Yushchenko, President of Ukraine | Non-acceptance would cause embarrassment to donor and U.S. Government
Vice President | Shadow box containing traditional Palestinian clothing and jewelry, in engraved copper frame. Rec'd—June 1, 2005. Est. Value—$325. Location—Archives Foreign | His Excellency Mahmoud Abbas, President of the Palestinian Authority | Non-acceptance would cause embarrassment to donor and U.S. Government.
Vice President | Small contemporary iron sculpture of an Iraqi dignitary. Rec'd—July 7, 2005. Est. Value—$350. Location—Archives Foreign | His Excellency Dr. Ibrahim Al-Eshaiker Al-Jaafari, Prime Minister of Iraq | Non-acceptance would cause embarrassment to donor and U.S. Government.
Vice President | Sterling silver box with enamel inlay. Rec'd—July 19, 2005. Est. Value—$500. Location—Archives Foreign | His Excellency Dr. Manmohan Singh, Prime Minister of the Republic of India | Non-acceptance would cause embarrassment to donor and U.S. Government
Mrs. Cheney | Sterling silver picture frame. Rec'd—July 19, 2005.—Est. Value—$275. Location—Archives Foreign | His Excellency Dr. Manmohan Singh, Prime Minister of the Republic of India | Non-acceptance would cause embarrassment to donor and U.S. Government.
Vice President | Six gold coins issued by the Central Bank of Kuwait. Rec'd-July 21, 2005. Est. Value—$1,000. Location—Archives | His Highness Sabah Al-Ahmad Al-Jaber Al Sabah, Prime Minister of the State of Kuwait | Non-acceptance would cause embarrassment to donor and U.S. Government.
Vice President | Scimitar 308 Winchester Presentation Rifle with engraved barrel and Night force, 3.5x15-50, scope, in presentation case. Rec'd—September 22, 2005. Est. Value—$14,120. Location—Archives Foreign Sterling silver box with Jordanian seal, lined with burled olive wood. Rec'd—September 22, 2005. Est. Value—$550. Location—Archives Foreign | His Majesty King Abdullah II bin al Hussein of the Hashemite Kingdom of Jordan | Non-acceptance would cause embarrassment to donor and U.S. Government.
Vice President | Large floral display. Rec'd—September 26, 2005. Est. Value—$500. Location—Handled pursuant to Secret Service policy | His Highness Sheikh Mohamed bin Zayed, Crown Prince of Abu Dhabi, Deputy Superior Commander of The United Arab Emirates Armed Forces | Non-acceptance would cause embarrassment to donor and U.S. Government.
Vice President | Large bouquet of flowers. Rec'd—September 26, 2005. Est. Value—$500. Location—Handled pursuant to Secret Service policy | His Highness Sheikh Mohamed bin Zayed, Crown Prince of Abu Dhabi, Deputy Superior Commander of The United Arab Emirates Armed Forces | Non-acceptance would cause embarrassment to donor and U.S. Government.
Vice President | Large floral arrangement. Rec'd—September 26, 2005. Est. Value—$500. Location—Handled pursuant to Secret Service policy | His Highness Sheikh Hamdan bin Zayed, Deputy Prime Minister and Minister of State for Foreign Affairs of the United Arab Emirates | Non-acceptance would cause embarrassment to donor and U.S. Government.
Vice President | Sterling silver box with large inlaid amber stone. Rec'd—September 28, 2005. Est. Value—$350. Location—Archives Foreign | His Excellency Marek Belka, Prime Minister of the Republic of Poland | Non-acceptance would cause embarrassment to donor and U.S. Government.
Vice President | Mother of pearl Nativity scene on a wooden base. Rec'd—October 20, 2005. Est. Value—$450. Location—Archives Foreign | His Excellency Mahmoud Abbas, President of the Palestinian Authority | Non-acceptance would cause embarrassment to donor and U.S. Government.
Vice President | Russian atlas and display of Ukrainian coins. Rec'd—November 2, 2005. Est. Value—$340. Location—Archives Foreign | His Excellency Yuri Yekhanurov, Prime Minister of Ukraine | Non-acceptance would cause embarrassment to donor and U.S. Government.
Vice President | Sterling silver scimitar, with inset amber stones. Rec'd—November 10, 2005. Est. Value—$1,500. Location—Archives Foreign | His Excellency Ali Abdullah Saleh, President Republic of Yemen | Non-acceptance would cause embarrassment to donor and U.S. Government.
Mrs. Cheney | Set of Sterling silver pendants and rings. Rec'd—November 10, 2005. Est. Value—$350. Location—Archives Foreign | His Excellency Ali Abdullah Saleh, President Republic of Yemen | Non-acceptance would cause embarrassment to donor and U.S. Government.
Vice President | Six E. Marinella ties. Rec'd—November 21, 2005. Est. Value—$810. Location—Archives Foreign | His Excellency Silvio Berlusconi, President of the Council of Ministers of the Italian Republic | Non-acceptance would cause embarrassment to donor and U.S. Government.
Vice President | Hand knotted Afghanistan wool pile rug with red ground with lines of mall gul patterns, with five minor borders and flat weave end panels. Measures 115 inches by 78 inches. Rec'd—December 22, 2005. Est. Value—$620. Location—Archives Foreign | His Excellency Hamid Karzai, President of the Islamic Republic of Afghanistan | Non-acceptance would cause embarrassment to donor and U.S. Government.
Mrs. Cheney | Embroidered tablecloth and twelve matching napkins. Rec'd—December 22, 2005. Est. Value—$175. Location—Archives Foreign Brass and lapis lazuli candelabra. Rec'd—December 22, 2005. Est. Value—$500. Location—Archives Foreign | His Excellency Hamid Karzai, President of the Islamic Republic of Afghanistan | Non-acceptance would cause embarrassment to donor and U.S. Government.
Vice President | Sterling silver repose bowl with small turquoise stone adornments. Rec'd—December 22, 2005. Est. Value—$250. Location—Archives Foreign Hand-stitched and painted wall hanging. Measures 104 inches by 84 inches. Rec'd—December 22, 2005. Est. Value—$200. Location—Archives Foreign | His Excellency Pervez Musharraf, President of the Islamic Republic of Pakistan | Non-acceptance would cause embarrassment to donor and U.S. Government.
Mrs. Cheney | 18K yellow gold dangle earrings in a floral design. Rec'd—December 22, 2005. Est. Value—$450. Location—Archives Foreign Gold pashmina silk and cashmere shawl. Rec'd—December 22, 2005. Est. Value—$55. Location—Archives Foreign | His Excellency Pervez Musharraf, President of the Islamic Republic of Pakistan | Non-acceptance would cause embarrassment to donor and U.S. Government.

AGENCY: Department of State
[Report of tangible gifts]
Name and title of person accepting the gift on behalf of the U.S. Government | Gift, date of acceptance on behalf of the U.S. Government, estimated value, and current disposition or location | Identity of foreign donor and government | Circumstances justifying acceptance
Condoleezza Rice, Secretary of State | Inuit carving of a walrus. Received—October 28, 2005. Est. Value—$1,250.00. Disposition—Pending transfer to General Services Administration | The Honorable Pierre S. Pettigrew, P.C., M.P., Minister of Foreign Affairs of Canada | Non-acceptance would have caused embarrassment to donor and U.S. Government.
Condoleezza Rice, Secretary of State | Afghan carpet. Received—March 17, 2005. Est. Value—$400.00. Disposition—Pending transfer to General Services Administration | His Excellency Dr. Abdullah Abdullah, Minister of Foreign Affairs of the Islamic Republic of Afghanistan | Non-acceptance would have caused embarrassment to donor and U.S. Government.
Condoleezza Rice, Secretary of State | Carpet, King Zahir Shah pattern. Received—March 17, 2005. Est. Value—$475.00. Disposition—Pending transfer to General Services Administration | His Excellency Hamid Karzai, President of Afghanistan | Non-acceptance would have caused embarrassment to donor and U.S. Government.
Condoleezza Rice Secretary of State | Sterling Silver Box in blue lock box. Received—July 11, 2005. Est. Value—$350.00. Disposition—Pending transfer to General Services Administration | Dr. Khantathi Suphamongkon Minister of Foreign Affairs of Thailand | Non-acceptance would have caused embarrassment to donor and U.S. Government.
Condoleezza Rice, Secretary of State | Lalique perfume bottle (glass). Received—February 2005. Est. Value—$347.00. Disposition—Pending transfer to General Services Administration | His Excellency Michel Barnier, Minister of Foreign Affairs of the French Republic | Non-acceptance would have caused embarrassment to donor and U.S. Government.
Condoleezza Rice, Secretary of State | Black and gold leopard necklace. Received—June 18, 2005. Est. Value—1,350.00. Disposition—Pending transfer to General Services Administration | Dr. Hanan Ashrawi Secretary General of MIFTAH Palestine | Non-acceptance would have caused embarrassment to donor and U.S. Government.
Condoleezza Rice, Secretary of State | Silver and wood vase painted black. Received—August 4, 2005. Est. Value—$350.00. Disposition—Pending transfer to General Services Administration | His Excellency Alvaro Uribe Velez, President of Colombia | Non-acceptance would have caused embarrassment to donor and U.S. Government.
Condoleezza Rice, Secretary of State | Bloom of Jordan coffee table book and Daum of France crystal decanter. Received—June 19, 2005. Est. Value—$400.00. Disposition—Pending transfer to General Services Administration | His Royal Highness King Abdallah II, King of Jordan | Non-acceptance would have caused embarrassment to donor and U.S. Government.
Condoleezza Rice, Secretary of State | Framed stone mosaic. Received—October 15, 2005. Est. Value—$400.00. Disposition—Pending transfer to General Services Administration | His Excellency Emomali Rahmonov, President of Tajikistan | Non-acceptance would have caused embarrassment to donor and U.S. Government.
Condoleezza Rice, Secretary of State | White Aurora Pen. Received—October 27, 2005. Est. Value—$350.00. Disposition—Pending transfer to General Services Administration | His Excellency Giovanni Castellaneta, Italian Ambassador to the U.S | Non-acceptance would have caused embarrassment to donor and U.S. Government.
Condoleezza Rice, Secretary of State | Sterling silver frame. Received—July 15, 2005. Est. Value—$350.00. Disposition—Pending transfer to General Services Administration | Dr. Khantathi Suphamongkon Minister of Foreign Affairs Thailand | Non-acceptance would have caused embarrassment to donor and U.S. Government.
Condoleezza Rice, Secretary of State | Herend porcelain seagull. Received—October 6, 2005. Est. Value—$2,300.00. Disposition—Pending transfer to General Services Administration | His Excellency Ferenc Gyurcsany, Prime Minister of the Republic of Hungary | Non-acceptance would have caused embarrassment to donor and U.S. Government.
Condoleezza Rice, Secretary of State | Jade vase with stand. Received—July 15, 2005. Est. Value—$750.00. Disposition—Pending transfer to General Services Administration | His Excellency Li Zhao Xing, Minister of Foreign Affairs People's Republic of China | Non-acceptance would have caused embarrassment to donor and U.S. Government.
Condoleezza Rice, Secretary of State | White/Yellow gold and diamond ring. Received—April 11, 2005. Est. Value—$3,250.00. Disposition—Pending transfer to General Services Administration | His Excellency Silvio Berlusconi, Prime Minister of Italy | Non-acceptance would have caused embarrassment to donor and U.S. Government.
Condoleezza Rice, Secretary of State | Gold coins issued by the Central Bank of Kuwait—in red leather box. Received—July 7, 2005. Est. Value—$500.00. Disposition—Pending transfer to General Services Administration | His Highness Sheikh Sabah Al-Ahmed Al-Jaber Al-Sabah, Prime Minister of the State of Kuwait | Non-acceptance would have caused embarrassment to donor and U.S. Government.
Condoleezza Rice, Secretary of State | Barnard Richards women's watch w/ brown crocodile strap/gold accents. Received—February 8, 2005. Est. Value—$2,250.00. Disposition—Pending transfer to General Services Administration | His Excellency Jacques Chirac, President of France | Non-acceptance would have caused embarrassment to donor and U.S. Government.
Condoleezza Rice, Secretary of State | Cigarette box—black and burgundy with gold design and painting of a man/water and setting sun. Received—February 5, 2005. Est. Value—$500.00. Disposition—Pending transfer to General Services Administration | His Excellency Sergey Lavrov, Foreign Minister of the Russian Federation | Non-acceptance would have caused embarrassment to donor and U.S. Government.
Condoleezza Rice, Secretary of State | Gold Necklace. Received—February 8, 2005. Est. Value—$1,750.00. Disposition—Pending transfer to General Services Administration | His Excellency Gianfranco Fini, Deputy Prime Minister and Minister of Foreign Affairs of the Italian Republic | Non-acceptance would have caused embarrassment to donor and U.S. Government.
Condoleezza Rice, Secretary of State | Sterling silver box with wood inlay. Received—September 20, 2005. Est. Value—$600.00. Disposition—Pending transfer to General Services Administration | His Royal Highness King Abdallah II, King of Jordan | Non-acceptance would have caused embarrassment to donor and U.S. Government.
Condoleezza Rice, Secretary of State | Lapis and gemstone globe. Received—October 12, 2005. Est. Value—$1,250.00. Disposition—Pending transfer to General Services Administration | Dr. Zalmay Rassoul, National Security Advisor of Afghanistan | Non-acceptance would have caused embarrassment to donor and U.S. Government.
Condoleezza Rice, Secretary of State | Hermes double wood picture frame. Received—July 11, 2005. Est. Value—$460.00. Disposition—Pending transfer to General Services Administration | His Excellency Philippe Douste-Blazy, Minister of Foreign Affairs of the French Republic | Non-acceptance would have caused embarrassment to donor and U.S. Government.
Condoleezza Rice, Secretary of State | Silver Plate. Received—November 11, 2005. Est. Value—$575.00. Disposition—Pending transfer to General Services Administration | Crown Prince Sheikh Salman bin Hamad bin Isa Al Khalifa, Commander in Chief of the Bahrain Defense Force | Non-acceptance would have caused embarrassment to donor and U.S. Government.
Condoleezza Rice, Secretary of State | Sterling silver boot spur. Received—December 13, 2005. Est. Value—$375.00. Disposition—Pending transfer to General Services Administration | His Excellency Oscar Maurtua, Minister of Foreign Relations of the Republic of Peru | Non-acceptance would have caused embarrassment to donor and U.S. Government.
Condoleezza Rice, Secretary of State | Enamel figurine of elephant, camel and horse. Received—October 17, 2005. Est. Value—$350.00. Disposition—Pending transfer to General Services Administration | His Excellency Kapil Sibal, Minister of State for Science and Technology India | Non-acceptance would have caused embarrassment to donor and U.S. Government.
Condoleezza Rice, Secretary of State | Pen set: ballpoint and fountain pen with inkwell on wood base. Received—July 6, 2005. Est. Value—$365.00. Disposition—Pending transfer to General Services Administration | His Excellency Joschka Fischer Minister of Foreign Affairs of the Federal Republic of Germany | Non-acceptance would have caused embarrassment to donor and U.S. Government.
Condoleezza Rice, Secretary of State | Framed letter of Hector Berlioz in gold frame. Received—February 8, 2005. Est. Value—$500.00. Disposition—Pending transfer to General Services Administration | Richard DeScoings, President of the Institute of Political Studies; Sciences Po in Paris, France | Non-acceptance would have caused embarrassment to donor and U.S. Government.
Condoleezza Rice, Secretary of State | Ivory, jeweled, gold and silver dagger. Received—June 21, 2005. Est. Value—$1,000.00. Disposition—Pending transfer to General Services Administration | His Royal Highness, Abdallah bin Abd al-Aziz Al Saud, Crown Prince, First Deputy Prime Minister and Commander of the National Guard of the Kingdom of Saudi Arabia | Non-acceptance would have caused embarrassment to donor and U.S. Government.
Condoleezza Rice, Secretary of State | Gemstone and gold pendant and earrings. Received—March 16, 2005. Est. Value—$450.00. Disposition—Pending transfer to General Services Administration | Begum Sehba Musharraf, Wife of the President of Pakistan | Non-acceptance would have caused embarrassment to donor and U.S. Government.
Condoleezza Rice, Secretary of State | Carpet/Rug. Received—October 11, 2005. Est. Value—$500.00. Disposition—Pending transfer to General Services Administration | His Excellency Dr. Abdullah Abdullah, Minister of Foreign Affairs of the Islamic Republic of Afghanistan | Non-acceptance would have caused embarrassment to donor and U.S. Government
Condoleezza Rice, Secretary of State | Silver coffee pot. Received—December 13, 2005. Est. Value—$450.00. Disposition—Pending transfer to General Services Administration | His Royal Highness Prince Saud Al-Faisal, Minister of Foreign Affairs of the Kingdom of Saudi Arabia | Non-acceptance would have caused embarrassment to donor and U.S. Government.
Condoleezza Rice, Secretary of State | Silver necklace, bracelet and earrings with cross stones from Cross River in Chile and a Book about Chile. Received—April 28, 2005. Est. Value—$375.00. Disposition—Pending transfer to General Services Administration | His Excellency Ignacio Walker Prieto, Minister of Foreign Relations of the Republic of Chile | Non-acceptance would have caused embarrassment to donor and U.S. Government.
Condoleezza Rice, Secretary of State | Bag containing traditional dress and hat, bracelet and earrings. Received—March 16, 2005. Est. Value—$1,150.00. Disposition—Pending transfer to General Services Administration | His Excellency Nursultan Nazarbayev, President of the Republic of Kazakhstan | Non-acceptance would have caused embarrassment to donor and U.S. Government.
Condoleezza Rice, Secretary of State | Small enamel box w/grapes on lid. Hammered sterling silver box. Received—November 7, 2005. Est. Value—$420.00. Disposition—Pending transfer to General Services Administration | His Excellency Lee Tae-sik, Ambassador of Korea to U.S | Non-acceptance would have caused embarrassment to donor and U.S. Government.
Condoleezza Rice, Secretary of State | Men's wristwatch and jewelry set of emerald and diamond necklace, earrings, ring and bracelet. Received—July 11, 2005. Est. Value—$90,000.00. Disposition—Pending transfer to General Services Administration | His Royal Highness, Abdallah bin Abd al-Aziz Al Saud, Crown Prince, First Deputy Prime Minister and Commander of the National Guard of the Kingdom of Saudi Arabia | Non-acceptance would have caused embarrassment to donor and U.S. Government.
Condoleezza Rice, Secretary of State | 2 white scarves and a silver cup . Received—November 9, 2005. Est. Value—$500.00 Disposition—Pending transfer to General Services Administration | His Holiness The Dalai Lama | Non-acceptance would have caused embarrassment to donor and U.S. Government.
Condoleezza Rice, Secretary of State | A bottle of Remy Martin Cognac, Laphroaig Scotch, and Chateau Leoville wine. Received—December 5, 2005. Est. Value—$358.00. Disposition—Pending transfer to General Services Administration | His Excellency Sheikh Hamad bin Jassim bin Jabir Al Thani, First Deputy Prime Minister and Minister of Foreign Affairs of the State of Qatar | Non-acceptance would have caused embarrassment to donor and U.S. Government.
Condoleezza Rice, Secretary of State | Baseball cap, coffee mugs, replica of rickshaw in silver, plaque for Secretary Rice from State Minister of Home Affairs. Received—February 7, 2005. Est. Value—$405.00. disposition—Pending transfer to General Services Administration | Md. Lutfozzaman Babar, State Minister of Home Affairs of Bangladesh | Non-acceptance would have caused embarrassment to donor and U.S. Government.
Condoleezza Rice, Secretary of State | Green leather brief case holding traditional Omani Arab Dress & thin Silver Jewelry: belt, necklace, earrings, bracelet and ring. Received—June 20, 2005. Est. Value—$1,650.00. Disposition—Pending transfer to General Services Administration | His Royal Highness, Abdallah bin Abd al-Aziz Al Saud, Crown Prince, First Deputy Prime Minister and Commander of the National Guard of the Kingdom of Saudi Arabia | Non-acceptance would have caused embarrassment to donor and U.S. Government.
Condoleezza Rice, Secretary of State | Desert life scene done in gold and Mother-of-Pearl. Received—June 20, 2005. Est. Value—$8,500.00. Disposition—Pending transfer to General Services Administration | His Royal Highness, Abdallah bin Abd al-Aziz Al Saud, Crown Prince, First Deputy Prime Minister and Commander of the National Guard of the Kingdom of Saudi Arabia | Non-acceptance would have caused embarrassment to donor and U.S. Government.
Condoleezza Rice, Secretary of State | Camel at an Oasis scene in gold on inlaid base. Received—November 12, 2005. Est. Value—$8,500.00. Disposition—Pending transfer to General Services Administration | His Royal Highness, Abdallah bin Abd al-Aziz Al Saud, Crown Prince, First Deputy Prime Minister and Commander of the National Guard of the Kingdom of Saudi Arabia | Non-acceptance would have caused embarrassment to donor and U.S. Government.
Condoleezza Rice, Secretary of State | Ancient coins from Lebanon. Received—August 5, 2005. Est. Value—$1,250.00. Disposition—Pending transfer to General Services Administration | His Excellency Emile Lahoud, President of the Republic of Lebanon | Non-acceptance would have caused embarrassment to donor and U.S. Government.
Condoleezza Rice, Secretary of State | Handmade Haddad flatware and cutlery. Received—August 5, 2005. Est. Value—$425.00. Disposition—Pending transfer to General Services Administration | His Excellency Fouad Siniora, Prime Minister of the Republic of Lebanon | Non-acceptance would have caused embarrassment to donor and U.S. Government.
Condoleezza Rice, Secretary of State | 5 Gold coins from the Bahrain Monetary Agency. Received—November 12, 2005. Est. Value—$3,000.00. Disposition—Pending transfer to General Services Administration | His Majesty Hamad Bin Isa Bin Salman Al-Khalifa, King of the Kingdom of Bahrain | Non-acceptance would have caused embarrassment to donor and U.S. Government.
Condoleezza Rice, Secretary of State | Wood box containing wood pin with diamonds and Mother-of-Pearl, Mother-of-Pearl earrings and candles. Received—June 19, 2005. Est. Value—$5,175.00. Disposition—Pending transfer to General Services Administration | His Royal Highness King Abdallah II, King of Jordan and Her Highness Queen Rania of Jordan | Non-acceptance would have caused embarrassment to donor and U.S. Government.
Miriam Gutierrez, Spouse of U.S. Ambassador Lino Gutierrez | Jean Pierre Joyeros woman's stainless steel watch with leather strap. Received—March 14, 2005. Est. Value—$450.00. Disposition—Pending transfer to General Services Administration | Jean Pierre Joyeros | Non-acceptance would have caused embarrassment to donor and U.S. Government.
Stephen Mann, Special Negotiator | 18k gold bar with inscription and a certificate from the Austrian Mint. Received—July 20, 2005. Est. Value—$3,000.00 gold price. Disposition—Pending transfer to General Services Administration | His Excellency Ilham Aliyev, President of the Republic of Azerbaijan | Non-acceptance would have caused embarrassment to donor and U.S. Government.
Elizabeth Cheney, Principal Deputy Assistant Secretary of State for Near Eastern Affairs and Coordinator for Broader Middle East and North American Initiatives | Engraved glass plate with a quote from Vice President Cheney. Received—August 18, 2005. Est. Value—$325.00. Disposition—Pending transfer to General Services Administration | Manda Shahbazi, Founder and President of the Alliance of Iranian Women | Non-acceptance would have caused embarrassment to donor and U.S. Government.
Elizabeth Cheney, Assistant Secretary of State | Necklace/earrings of mixed aqua gem beads. Received—May 30, 2005. Est. Value—$515.00. Disposition—Pending transfer to General Services Administration | Mrs. Mubarak, Spouse of the President of Egypt | Non-acceptance would have caused embarrassment to donor and U.S. Government.
Elizabeth Cheney, Assistant Secretary of State | Persian carpet. Received—August 18, 2005. Est. Value—$4,000.00. Disposition—Pending transfer to General Services Administration | Manda Shahbazi, Private Individual | Non-acceptance would have caused embarrassment to donor and U.S. Government.
Elizabeth Cheney, Assistant Secretary of State | Gold, turquoise, pearl and diamond with good luck charms. Received—May 22, 2005. Est. Value—$500.00. Disposition—Pending transfer to General Services Administration | Maha Aboulenein, Public Relations Consultant | Non-acceptance would have caused embarrassment to donor and U.S. Government.
Phyllis M. Powers, Director, Narcotics Affairs Section, Embassy Bogota | Gold, diamond and emerald earrings. Received—March 6, 2005. Est. Value—$600.00.Disposition—Pending transfer to General Services Administration | General Luis Alberto G. Herida, Director General of Anti-Narcotics Police, Colombia | Non-acceptance would have caused embarrassment to donor and U.S. Government.
John Blaney, U.S. Ambassador to Liberia | Gold cuff links in the shape of a map of the U.S. Received—December 7, 2005. Est. Value—$350.00. Disposition—Pending transfer to General Services Administration | Gyude Bryant, Chairman of National Transitional Government of Liberia | Non-acceptance would have caused embarrassment to donor and U.S. Government.
Elizabeth Cheney, Assistant Secretary of State | Micro-engraved Koran on Crystal rectangular pendant on silver chain with a magnifying wand by Viviane Debbas of Beruit. Received—September 12, 2005. Est. Value—$2,500.00. Disposition—Pending transfer to General Services Administration | Ahmed Gheit, Foreign Minister of Egypt UNGA Meeting | Non-acceptance would have caused embarrassment to donor and U.S. Government.
Elizabeth Cheney, Assistant Secretary of State | Statue: Gold and stone inlay of oasis scene in leather box. Received—July 27, 2005. Est. Value—$4,000.00. Disposition—Pending transfer to General Services Administration | His Royal Highness Prince Bandar bin Sultan bin Abdulaziz of The Kingdom of Saudi Arabia | Non-acceptance would have caused embarrassment to donor and U.S. Government.
Elizabeth Cheney, Assistant Secretary of State | Commemorative coin in a green case. Received—November 1, 2005. Est. Value—$2,500.00. Disposition—Pending transfer to GSA | Ambassador Prince Badar bin Abdulaziz, Kingdom of Saudi Arabia | Non-acceptance would have caused embarrassment to donor and U.S. Government.
Paula Dobriansky, Undersecretary of State | Box inlaid with lapis lazuli and other gemstones. Received—2005. Actual Date N.A. Est. Value—$500.00. Disposition—Pending transfer to General Services Administration | His Excellency Hamid Karzai, President of the Islamic Republic of Afghanistan | Non-acceptance would have caused embarrassment to donor and U.S. Government.
Mrs. Karl Hoffman, Wife of U.S. Ambassador to Togo | Velvet-lined with Wood box Filigree gold bracelet. Received—December 19, 2005. Est. Value—$2,850.00. Disposition—Pending transfer to General Services Administration | His Excellency Gnassingbe Eyadema, President of the Togolese Republic | Non-acceptance would have caused embarrassment to donor and U.S. Government.
Dr. Jendayi E. Frazer, Assistant Secretary of African Affairs | Freshwater Pearl necklace, loose faceted pear shape amethyst and silver filigree fish with stand. Received—December 5, 2005. Est. Value—$675.00. Disposition—Pending transfer to General Services Administration | His Excellency Yahya Jammeh President of the Republic of The Gambia | Non-acceptance would have caused embarrassment to donor and U.S. Government.
Steven R. Butler, Desk Officer of Libya | Canon Power Shot SD400 camera and case. Received—August 18, 2005. Est. Value—$359.95. Disposition—Pending transfer to General Services Administration | Libyan Liaison Office | Non-acceptance would have caused embarrassment to donor and U.S. Government.
Peter M. Thompson, Deputy Regional Coordinator U.S. Embassy, Iraq | Rado “Dia Star Anatom” Men's watch #R 10366761. Received—February 15, 2005. Est. Value—$3,400.00. Disposition—Pending transfer to General Services Administration | Kosrat Rasul Ali, Patriotic Union of Kurdistan | Non-acceptance would have caused embarrassment to donor and U.S. Government.
Ambassador Donald Ensenat, U.S. Chief of Protocol | Nativity scene done in Mother-of-Pearl. Received—October 24, 2005. Est. Value—$500.00. Disposition—Pending transfer to General Services Administration | His Excellency Mahmoud Abbas, President of the Palestinian Authority | Non-acceptance would have caused embarrassment to donor and U.S. Government.
James Wilkinson, Senior Advisor | Lapis lazuli and gemstone covered box. Received—October 12, 2005. Est. Value—$500.00. Disposition—Pending transfer to General Services Administration | His Excellency Hamid Karzai, President of the Islamic Republic of Afghanistan | Non-acceptance would have caused embarrassment to donor and U.S. Government.
Tabitha Bullock, Administrative Officer Blair House | Four-piece jewelry set in silver and coral. Received—November 10, 2005. Est. Value—$450.00. Disposition—Pending transfer to General Services Administration | His Excellency Ali Abdullah Saleh, President of the Republic of Yemen | Non-acceptance would have caused embarrassment to donor and U.S. Government.
Christina B. Rocca, Assistant Secretary for South Asia Affairs | Rug: ivory, wine and black design. Received—March 16, 2005. Est. Value—$450.00. Disposition—Pending transfer to General Services Administration | His Excellency Pervez Musharraf, President of the Islamic Republic of Pakistan | Non-acceptance would have caused embarrassment to donor and U.S. Government.
Robert Joseph, Undersecretary of State | Rug: red and blue design. Received—October 26, 2005. Est. Value—$350.00. Disposition—Pending transfer to General Services Administration | His Excellency Saparmurat Niyazov, President of Turkmenistan | Non-acceptance would have caused embarrassment to donor and U.S. Government.
Christina B. Rocca, Assistant Secretary for South Asia Affairs | Rug: burgundy and ivory design in green velvet cover. Received—October 15, 2005. Est. Value—$650.00. Disposition—Pending transfer to General Services Administration | His Excellency Pervez Musharraf, President of the Islamic Republic of Pakistan | Non-acceptance would have caused embarrassment to donor and U.S. Government.
James C. Oberwetter, U.S. Ambassador to Saudi Arabia | Girard-Perregaux Man's watch and Bulgari emerald/gemstone bead, diamond and gold necklace. Received—June 2, 2005. Est. Value—$8,125.00. Disposition—Pending transfer to General Services Administration | Mohamed Tobaishi, Chief of Protocol of Saudi Arabia | Non-acceptance would have caused embarrassment to donor and U.S. Government.
Christopher R. Hill, U.S. Ambassador to Korea | Ship model-glass case broken in shipment Received—September 28, 2005. Est. Value—$500.00. Disposition—Pending transfer to GSA | His Excellency Yoon Kwang-woong, Minister of Defense of the Republic of Korea | Non-acceptance would have caused embarrassment to donor and U.S. Government.
Randall Bumgardner, Assistant Chief of Protocol and Manager of the Blair House | Silver/tin composite 12” ceremonial dagger Received—November 10, 2005. Est. Value—$550. Disposition—Pending transfer to General Services Administration | His Excellency Ali Abdullah Saleh, President of Yemen | Non-acceptance would have caused embarrassment to donor and U.S. Government.
Hugo Llorens, Deputy Chief of Mission | Jean-Pierre Joyeros man's watch with leather strap Received—March 14, 2005. Est. Value—$1,300.00. Disposition—Returned to donor by Hugo Llorens on March 22, 2005 with letter of explanation | Ms. Claudia Stad and Jean Pierre Joyeros | Non-acceptance would have caused embarrassment to donor and U.S. Government but returned to donor after initial acceptance.
Mrs. Anita Oberwetter, Wife of James C. Oberwetter, U.S. Ambassador to Saudi Arabia | Saudi Arabia custom silk navy tunic dress with navy tulle overlay with gold and red stitching—Arabic dress Received—July 4, 2005. Est. Value—$320.00. Disposition—Pending transfer to General Services Administration | Amro Obaid and Soad Al Dabbash, private citizens of Saudi Arabia | Non-acceptance would have caused embarrassment to donor and U.S. Government but returned to donor after initial acceptance.
Mrs. Anita Oberwetter, Wife of James C. Oberwetter, U.S. Ambassador to Saudi Arabia | Saudi Arabia 21k gold Bedouin jewelry set including ring, necklace bracelet, and earrings Received—July 4, 2005. Est. Value—$1,113.60. Disposition—Pending transfer to General Services Administration | Dr. Nasser Al-Rashid, private citizens of Saudi Arabia | Non-acceptance would have caused embarrassment to donor and U.S. Government but returned to donor after initial acceptance.
Matthew Tueller, Deputy Chief of Mission, Embassy Kuwait | Audemars Piguet Man's Watch Received—December 17, 2005. Est. Value—$10,000.00. Disposition—Pending transfer to General Services Administration | Jaber Al-Ahmed Al-Jaber Al-Sabah, Foreign Official for State of Kuwait | Non-acceptance would have caused embarrassment to donor and U.S. Government but returned to donor after initial acceptance.
Condoleezza Rice, Secretary of State | Nativity scene box done in Mother-of-Pearl with embroidered black scarf. Received—October 24, 2005. Est. Value—$560.00. Disposition—Pending transfer to General Services Administration | His Excellency Mahmoud Abbas, President of the Palestinian Authority | Non-acceptance would have caused embarrassment to donor and U.S. Government.
Condoleezza Rice, Secretary of State | Four-piece jewelry set in silver and coral; earrings, necklace, bracelet and ring. Received—November 10, 2005. Est. Value—$450.00. Disposition—Pending transfer to General Services Administration | His Excellency Ali Abdullah Saleh, President of the Republic of Yemen | Non-acceptance would have caused embarrassment to donor and U.S. Government.
Christina B. Rocca, Assistant Secretary for South Asia Affairs | Rug—red with blue design rug made in Nepal Received—Spring 2002, Actual Date N/A Reported—June 20, 2006 for 2005 Report Est. Value—$305.00. Disposition—Pending transfer to General Services Administration | His Majesty Gyanendra Bir Bikram Shah Dev, King of Nepal | Non-acceptance would have caused embarrassment to donor and U.S. Government.
Christina B. Rocca, Assistant Secretary for South Asia Affairs | Oil Painting—25” x 43”, A painted view of a city street in Pakistan in a gold wood frame. Received—November 14, 2005. Est. Value—$310.00. Disposition—Pending transfer to General Services Administration | Parvez Elahi, Chief Minister Punjab, Government of Pakistan | Non-acceptance would have caused embarrassment to donor and U.S. Government.
Mrs. Anita Oberwetter, Wife of James C. Oberwetter, U.S. Ambassador to Saudi Arabia | Gold ring—small 21k gold ring with rubies and diamonds—previously worn and used Received—July 4, 2005. Est. Value—$320.00. Disposition—Pending transfer to General Services Administration | Wafa Dakhill, wife of Dr. Tarik Al-Abassi, National Commission for Wildlife Conservation and Development, Saudi Arabia | Non-acceptance would have caused embarrassment to donor and U.S. Government but returned to donor after initial acceptance.
Ambassador John Ordway, U.S. Ambassador to Kazakhstan | 2 Rugs—1. Rug 100cm x 140cm, jacquard, double-pieced weaving; 2. Rug 105cm x 145cm, Persian style, all natural materials of wool and silk Received—October 3, 2005. Est. Value—$800.00. Disposition—Requested permission to retain for Official Use at the U.S. Embassy Chancery in Kazakhstan | Almaty Carpet Factory, Kazakhstan | Non-acceptance would have caused embarrassment to donor and U.S. Government but returned to donor after initial acceptance.
Meghan O'Sullivan, Special Assistant to the President and DNSA for Iraq | Rug—primarily white and blue oriental carpet Received—November 2005, Actual Date N/A. Est. Value—$1,400.00. Disposition—Pending transfer to the General Services Administration | Adil Mahdi, Deputy President of Iraq | Non-acceptance would have caused embarrassment to donor and U.S. Government but returned to donor after initial acceptance.

AGENCY: Department of the Treasury
[Report of tangible gifts]
Name and title of person accepting the gift on behalf of the U.S. Government | Gift, date of acceptance on behalf of the U.S. Government, estimated value, and current disposition or location | Identity of foreign donor and government | Circumstances justifying acceptance
John W. Snow, Secretary of the Treasury | A gold and a silver commemorative coin. Rec'd—June 17, 2005. Est. Value—$375.00. Location—Treasury retained on June 20, 2005 for Official Use | Leszek Balcerowicz, President of the National Bank of Poland, Government of Poland | Non-acceptance would have caused embarrassment to donor and U.S. Government.

AGENCY: Department of the Treasury
[Report of travel]
Name and title of person accepting travel on behalf of the U.S. Government | Brief description and estimated value of travel expenses accepted as consistent with the interests of the U.S. Government and occurring outside the United States | Identity of foreign donor and government | Circumstances justifying acceptance
Jerry Crawford and Cecilia Swensen, both Intelligence Analysts | Hotel Lodging only for both persons. Rec'd.—September 13-15, 2005. Estimated Value—$750 | The Liechtenstein Financial Intelligence Unit in Triesen, Liechtenstein | Non-acceptance would have caused embarrassment to donor and U.S. Government.

AGENCY: Department of Defense
[Report of tangible gifts]
Name and title of person accepting the gift on behalf of the U.S. Government | Gift, date of acceptance on behalf of the U.S. Government, estimated value, and current disposition or location | Identity of foreign donor and government | Circumstances justifying acceptance
The Honorable Donald H. Rumsfeld, Secretary of Defense | Ceramic Egg w/Vodka Decanter/Shot glasses. Rec'd—January 11, 2005. Est. Value—$450.00. Location—Transferred to General Services Administration | His Excellency Sergey Ivanov, Minister of Defense, Russia | Non-acceptance would have caused embarrassment to donor and U.S. Government.
The Honorable Donald H. Rumsfeld, Secretary of Defense | Bronze Bust, Hermes Pear Wood jewelry Tray, Leather Briefcase. Rec'd—February 9, 2005. Est. Value—$240.00, $370.00, and $125.00 respectively—Total $735.00. Location—Transferred to General Services Administration | Honorable Jacques Peyrat, Mayor, Nice, France | Non-acceptance would have caused embarrassment to donor and U.S. Government.
The Honorable Donald H. Rumsfeld, Secretary of Defense | Afghan Rug 6.5″x5″. Rec'd—April 12, 2005. Est. Value—$450.00. Location: Transferred to GSA | His Excellency Hamid Karzai, President, Islamic Republic of Afghanistan | Non-acceptance would have caused embarrassment to donor and U.S. Government.
The Honorable Donald H. Rumsfeld, Secretary of Defense | Framed Tapestry, Small Framed Print, Gold Medallion of Party. Rec'd—April 12, 2005. Est. Value—$365.00, $20.00 and $25.00 respectively—Total $410.00. Location—Transferred to General Services Administration | His Excellency Massoud Barzani, Leader of Kurdish Democratic Party, Kurdistan | Non-acceptance would have caused embarrassment to donor and U.S. Government.
The Honorable Donald H. Rumsfeld, Secretary of Defense | Large Ceremonial Sword. Rec'd—April 12, 2005. Est. Value—$385.00. Location—Transferred to General Services Administration | His Excellency, Ibrahim Al Jaafari, Prime Minister (Designee), Republic of Iraq | Non-acceptance would have caused embarrassment to donor and U.S, Government.
The Honorable Donald H. Rumsfeld, Secretary of Defense | Black Powder Rifle. Rec'd—April 12, 2005. Est. Value—$525.00. Location—Transferred to General Services Administration | His Excellency General Pervez Musharraf, President, Islamic Republic of Pakistan | Non-acceptance would have caused embarrassment to donor and U.S. Government.
The Honorable Donald H. Rumsfeld, Secretary of Defense | Brown Silk Pakistan Rug 4″x6′. Rec'd—June 2, 2005. Est. Value—$700.00. Location—Transferred to General Services Administration | Lieutenant General Ashfaq Parvez Kayani, Director General Inter-Services Intelligence, Islamic Republic of Pakistan | Non-acceptance would have caused embarrassment to donor and U.S. Government.
The Honorable Donald H. Rumsfeld, Secretary of Defense | Brown Leather Briefcase, Framed Tribal Ornaments, Black Leather Handbag. Rec'd—June 23, 2005. Est. Value—$185.00, $70.00 and $70.00 respectively—Total $325.00. Location—Transferred to General Services Administration | His Excellency Mamadou Tandja, President of the Republic of Niger | Non-acceptance would have caused embarrassment to donor and U.S. Government.
The Honorable Donald H. Rumsfeld, Secretary of Defense | Bottle of Tawny Port Wine, Bottle of Colheita Port Wine. Rec'd—July 13, 2005. Est. Value—$220.00 and $190.00, respectively—Total $410.00. Location—Transferred to General Services Administration | His Excellency Luis Filipe Marques Amado, Minister of National Defense, Portuguese Republic | Non-acceptance would have caused embarrassment to donor and U.S. Government.
The Honorable Donald H. Rumsfeld, Secretary of Defense | Framed Artwork of Country Scene. Rec'd—July 26, 2005. Est. Value—$450.00. Location—Transferred to General Services Administration | Colonel General Sherali Khayrulloyev, Minister of Defense, Republic of Tajikistan | Non-acceptance would have caused embarrassment to donor and U.S. Government.
The Honorable Donald H. Rumsfeld, Secretary of Defense | Desk Set—Sterling Silver Photo Top Note Pad and Pen. Rec'd—October 13, 2005. Est. Value—$450.00. Location—Transferred to General Services Administration | His Majesty Abdullah bin Al Hussein, The King of Jordan, The Hashemite Kingdom of Jordan | Non-acceptance would have caused embarrassment to donor and U.S. Government.
The Honorable Donald H. Rumsfeld, Secretary of Defense | Model “Shenzhou” Spacecraft, Bottle of Moutai Alcohol, Photo Album of Trip (China), and Glass Globe w/Secretary of Defense photo inside. Rec'd—October 21, 2005. Est. Value—$250.00, $65.00 and $125.00, and $1,000.00 respectively—Total $1,440.00. Location—Transferred to General Services Administration | His Excellency General Cao, Minister of Defense, People's Republic of China | Non-acceptance would have caused embarrassment to donor and U.S. Government.
The Honorable Donald H. Rumsfeld, Secretary of Defense | Framed Embroidery “Lifelong Peace & Happiness”. Rec'd—October 21, 2005. Est. Value—$450.00. Location—Transferred to General Services Administration | His Excellency Yoon Kwang Ung, Minister of National Defense, Republic of Korea | Non-acceptance would have caused embarrassment to donor and U.S. Government.
The Honorable Donald H. Rumsfeld, Secretary of Defense | Silver tone Coin, edge stamped, with 5 petal flower, crown and “P” each within a chamfered square, inscription “Peace 1983-2005”. Rec'd—November 30, 2005. Est. Value—$1,200.00. Location—Transferred to General Services Administration | His Excellency Ambassador Bandar bin Sultan bin Abdulaziz, Royal Embassy of Saudi Arabia, Kingdom of Saudi Arabia | Non-acceptance would have caused embarrassment to donor and U.S. Government.
The Honorable Donald H. Rumsfeld, Secretary of Defense | Yemen Traditional Knife. Rec'd—December 13, 2005. Est. Value—$430.00. Location—Transferred to General Services Administration | His Excellency Ali Abdullah Saiih, President, Republic of Yemen | Non-acceptance would have caused embarrassment to donor and U.S. Government.
The Honorable Donald H. Rumsfeld, Secretary of Defense | 5 Boxes Assorted Treats, Bottle of Consecrated Holy Water from the River Jordan, Assorted Dead Sea Bath Products, Large Box of Dead Sea Bath Products, 1 Jar of Royal Jelly in a Decorative Box, and 2 Bottles of Extra Virgin Olive Oil packaged in boxes. Rec'd—December 23, 2005. Est. Value—$150.00, $570.00, $90.00, $80.00, $45.00, and $60.00 respectively—Total $495.00. Location—Transferred to General Services Administration | His Majesty King Abdullah bin Al Hussein and Queen Rania, The Hashemite Kingdom of Jordan | Non-acceptance would have caused embarrassment to donor and U.S. Government.
The Honorable Gordon England, Acting Deputy Secretary of Defense | Leather Briefcase, Perfume, Eau de Toilette, Perfume, Givenchy leather wallet, Falcon Sanctuary Pamphlet, Pen Rec'd—July 13, 2005. Est. Value—$205.00, $65.00, $80.00, $65.00, $90.00, $4.00 and $45.00, respectively—Total $554.00. Location—Transferred to General Services Administration | Major General Hamid, Chief of Staff Qartari Armed Forces, Qatar | Non-acceptance would have caused embarrassment to donor and U.S. Government.
The Honorable Gordon England, Acting Deputy Secretary of Defense | Casa Lopez Leather Briefcase Rec'd—October 26, 2005. Est. Value—$350.00. Location—Transferred to General Services Administration | His Excellency Jaime Garreta, Vice Minister of Defense, Argentina | Non-acceptance would have caused embarrassment to donor and U.S. Government.
General Richard B. Myers, Chairman, Joint Chiefs of Staff | Gift Set in Wooden Box: Candles, Candy in jars, Urns, Notebooks and Pin. Rec'd—January 10, 2005. Est. Value—$380.00. Location—Transferred to General Services Administration | His Majesty King Abdullah bin Al Hussein, The Hashemite Kingdom of Jordan | Non-acceptance would have caused embarrassment to donor and U.S. Government.
General Richard B. Myers, Chairman, Joint Chiefs of Staff | Assorted Olive Oils Aromatherapy Gift Set. Rec'd—January 26, 2005. Est. Value—$110.00 and $38.00 respectively—Total $490.00. Location—Transferred to General Services Administration | His Majesty King Abdullah bin Al Hussein, The Hashemite Kingdom of Jordan | Non-acceptance would have caused embarrassment to donor and U.S. Government.
General Richard B. Myers, Chairman, Joint Chiefs of Staff | Egyptian Rug. Rec'd—March 14, 2005. Est. Value—$650.00. Location—Transferred to General Services Administration | Lieutenant General Hamdy Weheba, Chief of Staff, Egyptian Armed Forces | Non-acceptance would have caused embarrassment to donor and U.S. Government.
General Richard B. Myers, Chairman, Joint Chiefs of Staff | Mexican Tea Set (6 each—cups, saucers, and salad plates, 1 serving platter, pitcher, coffee pot, tea pot w/holder, bean pot, sugar jar, cream jar. Rec'd—April 12, 2005. Est. Value—$370.00. Location—Transferred to General Services Administration | General Gerardo Vega Garcia, Chief of Defense, Mexico | Non-acceptance would have caused embarrassment to donor and U.S. Government.
General Richard B. Myers, Chairman, Joint Chiefs of Staff | Antique Pistol. Rec'd—May 19, 2005. Est. Value—$400.00. Location—Transferred to General Services Administration | Chief of the Netherlands Defense Staff | Non-acceptance would have caused embarrassment to donor and U.S. Government.
General Richard B. Myers, Chairman, Joint Chiefs of Staff | Chinese Ceramic Vase “Radiant with Joy” Gold w/blue, white and pink flowers. Rec'd—May 24, 2005. Est. Value—$540.00. Location—Transferred to General Services Administration | General Tien-Yu Lee, Chief of General Staff, Republic of China (Taiwan) | Non-acceptance would have caused embarrassment to donor and U.S. Government.
General Richard B. Myers, Chairman, Joint Chiefs of Staff | Lead Crystal Sword. Rec'd—July 8, 2005. Est. Value—$385.00. Location—Transferred to General Services Administration | Major General Fahad Ahmad Al-Amir, Deputy Chief of Staff, Kuwait | Non-acceptance would have caused embarrassment to donor and U.S. Government.
General Richard B. Myers, Chairman, Joint Chiefs of Staff | Pistola Arcabuz (Pistol on a wooden stand). Rec'd—July 29, 2005. Est. Value—$325.00. Location—Transferred to General Services Administration | General Carlos Ovalle Ospina, Colombia | Non-acceptance would have caused embarrassment to donor and U.S. Government.
General Richard B. Myers, Chairman, Joint Chiefs of Staff | Chess Set in wooden case w/inlaid wood design of man and woman. Rec'd—August 18, 2005. Est. Value—$350.00. Location—Transferred to General Services Administration | His Excellency Jalal Talabani, President of Iraq | Non-acceptance would have caused embarrassment to donor and U.S. Government.
General Richard B. Myers, Chairman, Joint Chiefs of Staff | Round Oriental Rug (blue/red/white with floral design and fringe). Rec'd—August 18, 2005. Est. Value—$900.00. Location—Transferred to General Services Administration | His Excellency Jalal Talabani, President of Iraq | Non-acceptance would have caused embarrassment to donor and U.S. Government.
The Honorable Donald H. Rumsfeld, Secretary of Defense | Jewelry Set—necklace and earrings. Rec'd—September 13, 2005. Est. Value—$580.00. Location—Transferred to General Services Administration | General Gerardo Vega Garcia, Chief of Defense, Mexico | Non-acceptance would have caused embarrassment to donor and U.S. Government.
The Honorable Donald H. Rumsfeld, Secretary of Defense | Gold Necklace and Bracelet Set. Rec'd—September 14, 2005. Est. Value—$1,340.00. Location—Transferred to General Services Administration | Chief of the Netherlands Defense Staff | Non-acceptance would have caused embarrassment to donor and U.S. Government.
General Richard B. Myers, Chairman, Joint Chiefs of Staff | Afghan wool pile rug. Rec'd—October 13, 2005. Est. Value—$450.00. Location—Transferred to General Services Administration | His Excellency Hamid Karzai, President, Afghanistan | Non-acceptance would have caused embarrassment to donor and U.S. Government.
Stephen A. Cambone, Undersecretary of Defense, Intelligence | Framed Artwork: City/River View on Canvas. Rec'd—August 10, 2005. Est. Value—$365.00. Location—Transferred to General Services Administration | General (Army) Valentine V. Korabelnikov, Chief, Main Intelligence Directorate of the General Staff, Moscow | Non-acceptance would have caused embarrassment to donor and U.S. Government.
Richard J. Millies, Deputy Director, Defense Security Cooperation Agency | Gold Saudi Commemorative Coin Bracelet. Rec'd—March 1, 2005. Est. Value—$670.00. Location—Transferred to General Services Administration | General Metieb bin Abdullah bin Abdulaziz, Assistant Deputy of Saudi Arabia | Non-acceptance would have caused embarrassment to donor and U.S. Government.
Mira R. Ricardel, Assistant Secretary of Defense, International Security Program | Twelve Types of Jubilee Coins in a wood display case. Coins were mined in Uzbekistan. Uzbekistan National Dress including a square shaped headgear sown with gold threads and a Royal Blue full-length Gold Trimmed Robe. Rec'd—May 9, 2005. Est. Value—$270.00, $185.00 and $35.00 respectively—Total $490.00. Location—Transferred to General Services Administration | His Excellency Islam A. Karimov, President of the Republic of Uzbekistan | Non-acceptance would have caused embarrassment to donor and U.S. Government.
Richard P. Lawless, Deputy Assistant Undersecretary of Defense for Asian and Pacific Affairs | Large Gold Oriental Vase. Rec'd—May 27, 2005. Est. Value—$540.00. Location—Transferred to General Services Administration | General Lee Tien-Y, Chief of General Staff, Taiwan | Non-acceptance would have caused embarrassment So donor and U.S. Government.
Assistant Secretary of Defense for International Security, Peter Rodman and Mrs. Veronique Rodman | Plaque, Gold Necklace and Silver Pitcher. Rec'd—January 21, 2005. Est. Value—$35.00, $260.00, and $225.00 respectively—Total $520.00. Location—Transferred to General Services Administration | Lieutenant General Hamdy Weheba, Chief of Staff, Egyptian Armed Forces | Non-acceptance would have caused embarrassment to donor and U.S. Government.
Assistant Secretary of Defense for International Security Affairs Peter Rodman and Mrs. Veronique Rodman | Oriental Beige Carpet, 95″ x 76″. Rec'd—May 16, 2005 Est. Value—$900.00. Location—Transferred to General Services Administration | His Excellency Hedi M'Henni, Minister of Defense, Republic of Tunisia | Non-acceptance would have caused embarrassment to donor and U.S. Government.
Assistant Secretary of Defense for International Security Affairs, Peter Rodman and Mrs. Veronique Rodman | Portrait—five Arabians on Horses. Rec'd—May 18, 2005. Est. Value—$650.00. Location—Transferred to General Services Administration | His Excellency Abderrahmane Sbai, Minister of Defense, Morocco | Non-acceptance would have caused embarrassment to donor and U.S. Government.
Assistant Secretary of Defense, ISA, Peter Rodman and Mrs. Veronique Rodman | Large gold Chinese vase w/butterfly and flower design. Rec'd—May 24, 2005. Est. Value—$560.00. Location—Transferred to General Services Administration | Chief of General Staff, Su Tseng-Chang, Taiwan | Non-acceptance would have caused embarrassment to donor and U.S. Government.
Commander Peter McVety | Leandri Men's Wristwatch. Rec'd—August 5, 2005. Est. Value—$390.00. Location—Transferred to General Services Administration | Major Abdullah AI-Khalifa, Defense Attaché, Bahrain Embassy | Non-acceptance would have caused embarrassment to donor and U.S. Government.

AGENCY: Department of Agriculture
[Report of tangible gifts]
Name and title of person accepting the gift on behalf of the U.S. Government | Gift, date of acceptance on behalf of the U.S. Government, estimated value, and current disposition or location | Identity of foreign donor and government | Circumstances justifying acceptance
A. Ellen Terpstra, Foreign Agricultural Service Administrator | 22″ long by 20″ wide fabric of woven silk with six stripes in vivid colors and patterns in white, pink, yellow, blue and black. Rec'd—April 19, 2005. Est. Value—$350.00. Location—Returned to the USDA/FAS Foreign Visitor and Protocol Office. Pending transfer to General Services Administration | Ambassador Abdulaziz Komilov, Uzbekistan | Non-acceptance would have caused embarrassment to donor and U.S. Government.

AGENCY: Department of Commerce
[Report of tangible gifts]
Name and title of person accepting the gift on behalf of the U.S. Government | Gift, date of acceptance on behalf of the U.S. Government, estimated value, and current disposition or location | Identity of foreign donor and government | Circumstances justifying acceptance
Carlos M. Gutierrez, Secretary of Commerce | Vase: Maroon and black lacquered metal vase with extensive mother of pearl inlay work depicting a dragon, a four footed animal figure and floral arrangements. The vase is 72″ high and rests on a separate base carved of wood. Rec'd—August 24, 2005. Est. Value—$5,500.00. Location—Secretary's office for Official Use | Nguyen Xuan Hien, President and Chief Executive Officer, Vietnam Airlines, Gia Lam Airport, Hanoi Vietnam | Non-acceptance would cause embarrassment to donor and U.S. Government.
Carlos M. Gutierrez, Secretary of Commerce | Lomonosov Porcelain Tea Set Including: Pot, 2 cups with saucers, desert plates, and tea holder. Rec'd—June 8, 2005. Est. Value—$500.00. Location—Secretary's office for Official Use | German Oskarovich Gref, Minister of Economic Development and Trade, Russian Federation | Non-acceptance would cause embarrassment to donor and U.S. Government.

AGENCY: Department of Health and Human Services
[Report of tangible gifts]
Name and title of person accepting the gift on behalf of the U.S. Government | Gift, date of acceptance on behalf of the U.S. Government, estimated value, and current disposition or location | Identify of foreign donor and government | Circumstances justifying acceptance
Tommy Thompson, Secretary of the Department of Health and Human Services | Sterling Silver tea pot with floral appliqué in a green velvet presentation box and plaque with donor name. Rec'd—2004, Actual Date N/A. Reported—June 1, 2006 for 2005 Report. Estimated Value—$450. Disposition—Pending transfer to General Services Administration | Dr. Hamad Abdullah Al-Manea, Minister of Health, Kingdom of Saudi Arabia | Non-acceptance would cause embarrassment to donor and U.S. Government.
Dr. Anthony S. Fauci, Director of National Institute of Allergy and Infectious Diseases | Double framed jade circular disc with dragon in the center. Rec'd—May 20, 2004. Reported—June 1, 2006 for 2005 Report. Estimated Value—$310. Disposition—Pending transfer to General Services Administration | Dr. Yiming Shao, Chief expert of the National Center for AIDS/STED Control and Prevention and Director of the Department of Research on Virology and Immunology, Chinese Center for Disease Control and Prevention | Non-acceptance would cause embarrassment to donor and U.S. Government.

AGENCY: Department of Energy
[Report of tangible gifts]
Name and title of person accepting the gift on behalf of the U.S. Government | Gift, date of acceptance on behalf of the U.S. Government, estimated value, and current disposition or location | Identity of foreign donor and government | Circumstances justifying acceptance
Samuel W. Bodman, Secretary of Energy | Gold Plaque, 2⅜″ H x 4⅞″ W, Depicting Pipeline From Ceyhan, Turkey To Tbilisi, Gurcustan, To Baki, Azerbaycan; Accompanied By Certificate No. 14 Stating Gold 750/1000 (Indicating 18k). Rec'd—2005, Actual Date N/A. Estimated Value—$2,250. Location—Department of Energy for Official Use | His Excellency Ilham Aliyev, President of the Republic of Azerbaijan | Non-acceptance would cause embarrassment to donor and U.S. Government.
Samuel W. Bodman, Secretary of Energy | Hinged Lidded Wood Box With Magnifying Glass Tied Inside Lid Beside Casting Of Horse-Drawn Cart, Wood Standing With Tied Bamboo Slats Laser Cut With “The Art Of War” Text In English, Pair Of White Fabric Gloves, Map Printed On Leather. Rec'd—2005, Actual Date N/A. Estimated Value—$360. Location—Department of Energy for Official Use | Chinese National Development And Reform Commission, Vice Chairman, Zhang Guobao | Non-acceptance would cause embarrassment to donor and U.S. Government.
Samuel W. Bodman, Secretary of Energy | Footed Gilt Cup—5½″ High Footed Cup of An Unidentified Metal, Gilt Color. Decorated W/A Banding of Cloisonne, And Set With Pentagonal Forms. Rec'd—2005, Actual Date N/A. Estimated Value—$350. Location—Department of Energy for Official Use | Amen Movsisyan Minister of Energy Republic of Armenia | Non-acceptance would cause embarrassment to donor and U.S. Government.
Samuel W. Bodman, Secretary of Energy | Model Ship—Silver Covered Unidentified Metal Designed In The Form Of A Sail Ship With Two Masts. Sitting On An Onyx Base 11″ × 3″. Rec'd—November 12, 2005. Estimated Value—$325. Location—Department of Energy for Official Use | Mohammed Bin Dha'en Al-Hamili, Minister of Energy, United Arab Emirates | Non-acceptance would cause embarrassment to donor and U.S. Government.
Samuel W. Bodman, Secretary of Energy | Box Frame Of Symbols—14½″ × 16″ Glazed Box Frame With Nine Miniature Silver Symbols (Including A “Gahwa” Coffee Pot, A Flag, An Oil Rig, And A Sail Boat) Relating To Kuwait. Rec'd—November 13, 2005. Estimated Value—$675. Location: Department of Energy for Official Use | Minister Al-Sabah, Energy Minister of Kuwait | Non-acceptance would cause embarrassment to donor and U.S. Government.
Samuel W. Bodman, Secretary of Energy | Traveling Work Boat—Native Style Row Boat With 21 Men On Each Side Manning Two Oars. Made Of Silver The 16″ Long Boat (6½″ Wide With Oars) Is Fitted In A Covered Leather Case. Rec'd—November 12, 2005. Estimated Value—$450. Location—Department of Energy for Official Use | Sheikh Khalifa Bin Zayed Al-Nahyan, President United Arab Emirates | Non-acceptance would cause embarrassment to donor and U.S. Government.
Samuel W. Bodman, Secretary of Energy | Chess Board—Onyx 20″ x 20″ Chess Board, ⅞″ Thick. Of The Brazil Origin, It Is Black And White. Rec'd—March 14, 2005. Estimated Value—$350. Location—Department of Energy for Official Use | Dilma Rouseff, Minister of Mines and Energy Brazil | Non-acceptance would cause embarrassment to donor and U.S. Government.
Samuel W. Bodman, Secretary of Energy | Sword—Silver (Purity Unknown) Reproduction Of A Middle Eastern Style Sword And Saber With A Presentation Plaque. Steel Blade Is 34″ Long. Overall Sword Is 39″ Long. Unit Is Enclosed In A Bottom Lined Presentation Box With A Patterned Textile. Rec'd—November 17, 2005. Estimated Value—$750. Location—Department of Energy for Official Use | His Excellency Ali Al-Naimi, Minster of Petroleum and Mineral Resources, Kingdom of Saudi Arabia | Non-acceptance would cause embarrassment to donor and U.S. Government.
Samuel W. Bodman, Secretary of Energy | Six Books Concerning The Culture Of Kuwait. * Ceramics For Islamic Land—$60.00, * Treasury Of The World—$50.00, * Art In Exile—$40.00, * Glass From Islam Sands—$60.00, * Instant Art In The Kuwait Museum—$40.00. Rec'd—November 13, 2005. Estimated Value—$325. Location—Department of Energy for Official Use | Mrs. Hessa Al-Sabah, Wife of the Minister of Energy of the Kingdom of Saudi Arabia | Non-acceptance would cause embarrassment to donor and U.S. Government.
Samuel W. Bodman, Secretary of Energy | Jewelry—Middle East Style Piece Of Reproduction Ornamental Jewelry Of Silver. A Solid Decorative Neck Collar w/Twelve 9″ Long Strands W/Two Silver Beads, And Eleven Shorter Strands. The Jewelry Is Encased In A Glazed Frame. Rec'd—November 17, 2005. Estimated Value—$375. Location—Department of Energy for Official Use | Mrs. Al-Naimi, First Lady of the Kingdom of Saudi Arabia | Non-acceptance would cause embarrassment to donor and U.S. Government.
Samuel W. Bodman, Secretary of Energy | Set of 3 boxes from Mstra, Russia lacquered Paper-Mache, red interiors, black exteriors, hinged lids with hand painted scenes, all with emblem on bottom of standing archer with circle. Rec'd—Approximate Date 2005—Actual Date N/A. Reported in 2006 for 2005 Report. Est. Value—$500. Location—Department of Energy for Official Use | Alexei Miller, Chief Executive Officer, GAZPROM | Non-acceptance would cause embarrassment to donor and U.S. Government.
Samuel W. Bodman, Secretary of Energy | Card assembly, reportedly first prototype: Blue Gene/L link-card assembly by IBM, 8½″ x 16½″ mounted on black Plexiglas with accompanying label. Rec'd—Approximate Date 2005—Actual Date N/A. Reported in 2006 for 2005 Report. Est. Value—$900. Location—Department of Energy for Official Use | IBM Corporation | Non-acceptance would cause embarrassment to donor and U.S. Government.

AGENCY: Office of the Director of National Intelligence
[Report of tangible gifts]
Name and title of person accepting the gift on behalf of the U.S. Government | Gift, date of acceptance on behalf of the U.S. Government, estimated value, and current disposition or location | Identity of foreign donor and government | Circumstances justifying acceptance
Michael V. Hayden, Principal Deputy, Director of National Intelligence | Silk Rug: 58 V2 inches × 36 inches, silk on silk, dark blue field with ivory and polychrome doubly terminated medallion, eight borders with ivory main, 20th/21st century. Handbag: ivory leather, 21st century. Rec'd—October 3, 2005. Est. Value—$1,600.00. Location—Approved for Official Display | The National Security Act of 1947, 50 U.S.C. 403-(1)(i) as amended | Non-acceptance would cause embarrassment to donor and U.S. Government.
John D. Negroponte Director of National Intelligence | Cigarette box: sterling silver and niello work, lined, 20th/21st century, 17 oz T. Rec'd—July 12, 2005. Est. Value—$400.00. Location—Approved for Official Display | 50 U.S.C. 403-(1)(i) | Non-acceptance would cause embarrassment to donor and U.S. Government.
John D. Negroponte, Director of National Intelligence | Table Clock: 11 lA inches high, tan and black jasper with polished brass mounts, 20th/21st century. Rec'd—June 15, 2005. Est. Value—$450. Location—Approved for Official Display | 50 U.S.C. 403-(1)(i) | Non-acceptance would cause embarrassment to donor and U.S. Government.
John D. Negroponte, Director of National Intelligence | Medallions: sterling silver proofs, various motifs, in fitted box, (1 @ 5 oz T, 16 @ 2 oz T—437 oz T total). Compact Disc Book. Rec'd—June 21, 2005. Est. Value—$650.00. Location—Approved for Official Display | 50 U.S.C. 403-(1)(i) | Non-acceptance would cause embarrassment to donor and U.S. Government.
John D. Negroponte, Director of National Intelligence | Rug: 60 inches × 37% inches, silk on silk, teal ground with dark blue and polychrome doubly terminated medallion, ivory astragals, six borders with dark blue main, 20th/21st century. Attaché Case: black leather, small note pad, wallet, glass case and key case. Handbag: brown leather bag with wallet and jewelry case. Wall Hanging: 40 inches × 68inches, embroidered cotton with small applied round mirror pieces, 20th/21st century. Rec'd—May 27, 2005. Est. Value—$2,155.00. Location—Approved for Official Display | 50 U.S.C. 403-(1)(i) | Non-acceptance would cause embarrassment to donor and U.S. Government.
John D. Negroponte, Director of National Intelligence | Dagger: (jambiya), 12 inches long, typical curved steel blade and conforming silver hilt and scabbard, reproduction, 20th/21st century, sterling silver w/fretwork in blue velvet presentation case. Cloth: multicolored with fringe. Rec'd—November 10, 2005. Est. Value—$500.00. Location—Approved for Official Display | 50 U.S.C. 403-(1)(i) | Non-acceptance would cause embarrassment to donor and U.S. Government.
An ODNI Employee 50 U.S.C. 403-(1)(i) | Man's Watch: Tag Heuer, stainless steel “Formula One” Compact Disc Photograph on aluminum paper 10x8 street scene, 20th/21st century, framed Book. Rec'd—October 26, 2005. Est. Value—$789.00. Location—Pending transfer to General Services Administration | 50 U.S.C. 403-(1)(i) | Non-acceptance would cause embarrassment to donor and U.S. Government.

AGENCY: United States Senate
[Report of tangible gifts]
Name and title of person accepting the gift on behalf of the U.S. Government | Gift, date of acceptance on behalf of the U.S. Government, estimated value, and current disposition or location | Identity of foreign donor and government | Circumstances justifying acceptance
Russell Feingold, U.S. Senator | Framed Algerian Tiles. Rec'd—January 11, 2005. Estimated Value—$150. Location—Official Use, Displayed in SH-506 | His Excellency Ahmed Ouyahia, Prime Minister of the People's Democratic Republic of Algeria | Non-acceptance would cause embarrassment to donor and U.S. Government.
John Kerry, U.S. Senator | Gold and Silver Braided Bracelet. Rec'd—January 12, 2005. Estimated Value—Over $100. Location—Deposited with Secretary of the Senate, pending transfer to the General Services Administration | Hussein Tantawy, Field Marshall of Egypt | Non-acceptance would cause embarrassment to donor and U.S. Government.
Russell Feingold, U.S. Senator | Rug. Rec'd—February 21, 2005. Estimated Value—$200. Location—Official Use, Displayed in SH-506 | His Excellency Hamid Karzai, President of the Republic of Afghanistan | Non-acceptance would cause embarrassment to donor and U.S. Government.
Mitch McConnell, U.S. Senator | Woven Area Rug. Rec'd—January 13, 2005. Estimated Value—$100. Location—Deposited with Secretary of the Senate, pending transfer to the General Services Administration | His Excellency Hamid Karzai, President of the Republic of Afghanistan | Non-acceptance would cause embarrassment to donor and U.S. Government.
Hillary Rodham Clinton, U.S. Senator | Crystal Napkin Rings and Tray. Rec'd—March 17, 2005. Estimated Value—$150. Location—Official Use, Displayed in SR-464A | His Excellency Bertie Ahern TD, Prime Minister of Ireland | Non-acceptance would cause embarrassment to donor and U.S. Government.
Hillary Rodham Clinton, U.S. Senator | Leather Briefcase. Rec'd—February 2005. Estimated Value—$300. Location—Deposited with Secretary of the Senate, pending transfer to the General Services Administration | His Excellency Pervez Musharraf, President of the Islamic Republic of Pakistan | Non-acceptance would cause embarrassment to donor and U.S. Government.
Hillary Rodham Clinton, U.S. Senator | Silver and Gold Picture Frame. Rec'd—February 2005. Estimated Value—$300. Location—Official Use, Displayed in SR-464A | K. Natwar Singh, Minister of External Affairs, Government of Republic of India | Non-acceptance would cause embarrassment to donor and U.S. Government.
Hillary Rodham Clinton, U.S. Senator | Silver Plaque with Plexiglas base. Rec'd—February 2005. Estimated Value—$200. Location—Deposited with Secretary of the Senate, pending transfer to the General Services Administration | Sharad Pawar, Minister of Agriculture and Consumer Affairs, Government of Republic of India | Non-acceptance would cause embarrassment to donor and U.S. Government.
Hillary Rodham Clinton, U.S. Senator | Afghan Rug. Rec'd—February 2005. Estimated Value—Unknown. Location—Official Use, Displayed in SR-464A | His Excellency Hamid Karzai, President of the Republic of Afghanistan | Non-acceptance would cause embarrassment to donor and U.S. Government.
Susan M. Collins, U.S. Senator | Carpet. Rec'd—February 22, 2005. Estimated Value—$1,800. Location—Official Use, Displayed in SD-469 | His Excellency Hamid Karzai, President of the Republic of Afghanistan | Non-acceptance would cause embarrassment to donor and U.S. Government.
Russell Feingold, U.S. Senator | Book-Image in Stone/Tunisia in Mosaic. Rec'd—February 22, 2005. Estimated Value—$75. Location—Official Use, Displayed in SH-506 | Government of Tunisia | Non-acceptance would cause embarrassment to donor and U.S. Government.
Russell Feingold, U.S. Senator | Silver Serving Bowl. Rec'd—February 20, 2005. Estimated Value—$100. Location—Official Use, Displayed in SH-506 | His Excellency Pervez Musharraf, President of the Islamic Republic of Pakistan | Non-acceptance would cause embarrassment to donor and U.S. Government.
Norm Coleman, U.S. Senator | Rug: black, burgundy & cream. Rec'd—January 12, 2005. Estimated Value—$1,800. Location—Official Use, Displayed in Minnesota State Office 2550 University Avenue West, Suite 100N, St. Paul, Minnesota | His Excellency Hamid Karzai, President of the Republic of Afghanistan | Non-acceptance would cause embarrassment to donor and U.S. Government.
John McCain, U.S. Senator | Afghan Rug. Rec'd—February 18, 2005. Estimated Value—$1,800. Location—Official Use, Displayed in SR-241 | His Excellency Hamid Karzai, President of the Republic of Afghanistan | Non-acceptance would cause embarrassment to donor and U.S. Government.
Ted Stevens, U.S. Senator | Watch. Rec'd—March 2004. Estimated Value—$328. Reported—2006 for 2005 Report. Location—Deposited with Secretary of the Senate, pending transfer to the General Services Administration | His Excellency Jacques Chirac, President of the French Republic | Non-acceptance would cause embarrassment to donor and U.S. Government.
Ted Stevens, U.S. Senator | Gold Tea Serving Set in presentation box. Rec'd—August 2004. Reported—2006 for 2005 Report. Estimated Value—$150 Location—Deposited with the Secretary of the Senate, pending transfer to the General Services Administration | His Excellency Ilham Aliyev, President of the Republic of Azerbaijan | Non-acceptance would cause embarrassment to donor and U.S. Government.
Ted Stevens, U.S. Senator | Handmade medium sized rug. Rec'd—August 2004. Reported—2006 for 2005 Report. Estimated Value—$800. Location—Deposited with Secretary of the Senate, pending transfer to the General Services Administration | His Excellency Ilham Aliyev, President of the Republic of Azerbaijan | Non-acceptance would cause embarrassment to donor and U.S. Government.
Hillary Rodham Clinton, U.S. Senator | Carved Wooden Bookends from Tahiti. Rec'd—April 28, 2005. Estimated Value—Unknown. Location—Deposited with Secretary of the Senate, pending transfer to the General Services Administration | President Oscar Manutahi Temarli, French Polynesia | Non-acceptance would cause embarrassment to donor and U.S. Government.
Lindsey Graham, U.S. Senator | 3x5 Rug. Rec'd—April 5, 2005. Estimated Value—$1,800.00. Location—Deposited with Secretary of the Senate, pending transfer to the General Services Administration | His Excellency Hamid Karzai, President of the Republic of Afghanistan | Non-acceptance would cause embarrassment to donor and U.S. Government.
Hillary Rodham Clinton, U.S. Senator | Display Replica of a Kuwaiti Sailboat—A Sambuq—Gold Plating. Rec'd—June 29, 2005. Estimated Value—Unknown. Location—Deposited with Secretary of the Senate, pending transfer to the General Services Administration | Masoma Mubarak, Kuwaiti Minister of Planning; Nadia Al-Mutawaa, Arab Olen University; Aroob Al-Refaee, Kuwaiti National Council for Culture; Niba Bourisly, Kuwait University | Non-acceptance would cause embarrassment to donor and U.S. Government.
Ted Stevens, U.S. Senator | 925 Sterling Silver, Handmade Picture Frame. Rec'd—July 25, 2005. Estimated Value—$125.00. Location—Deposited with Secretary of the Senate, pending transfer to the General Services Administration | His Excellency Manmohan Singh, Prime Minister of the Republic of India | Non-acceptance would cause embarrassment to donor and U.S. Government.
Bill Frist, U.S. Senator | Benvine karakul Sheep Wool Tapestry. Rec'd—July 11, 2005. Estimated Value—$300. Location—Deposited with Secretary of the Senate, pending transfer to the General Services Administration | His Excellency Hifikepunye Pohamba, President of the Republic of Namibia | Non-acceptance would cause embarrassment to donor and U.S. Government.
Bill Frist, U.S. Senator | 2 Handmade Silver Dishes by Ravaissant. Rec'd—July 19, 2005. Estimated Value—$150. Location—Deposited with Secretary of the Senate, pending transfer to the General Services Administration | His Excellency Manmohan Singh, Prime Minister of the Republic of India | Non-acceptance would cause embarrassment to donor and U.S. Government.
Richard Lugar, U.S. Senator | Embellished Silver Case/Cigarette Box. Rec'd—July 12, 2005. Estimated Value—Over $100. Location—Deposited with Secretary of the Senate, pending transfer to the General Services Administration | Dr. Kantathi Suphamongkhon, Minister of Foreign Affairs of Thailand | Non-acceptance would cause embarrassment to donor and U.S. Government.
Bill Frist, U.S. Senator | Small Box with Inlaid Marble Design. Rec'd—June 24, 2005 (approx). Estimated Value—$400. Location—Deposited with Secretary of the Senate, pending transfer to the General Services Administration | His Excellency Hamid Karzai, President of the Republic of Afghanistan | Non-acceptance would cause embarrassment to donor and U.S. Government.
Harry Reid, U.S. Senator | Wall Hanging “Entwurf”—Diana Herman. Rec'd—July 11, 2005. Estimated Value: $357.03. Location—Official Use, Displayed in SH-528 | His Excellency Hifikepunye Pohamba, President of the Republic of Namibia | Non-acceptance would cause embarrassment to donor and U.S. Government.
Hillary Rodham Clinton, U.S. Senator | Perfume Oils in Taj Mahal Presentation Case. Rec'd—September 16, 2005. Estimated Value—$400.00. Location—Deposited with Secretary of the Senate, pending transfer to the General Services Administration | Amar Singh, Member of Parliament, New Delhi, India | Non-acceptance would cause embarrassment to donor and U.S. Government.
Joseph R. Biden, Jr., U.S. Senator | 3 x 5′ Rug. Rec'd—September 14, 2005. Estimated Value—$250.00. Location—Official Use, Displayed in SR-203 | Hashem al-Hassani, Speaker of the Iraq Parliament | Non-acceptance would cause embarrassment to donor and U.S. Government.
Mark Dayton, U.S. Senator | Crystal clock w/ the city of Tianjin in plated gold and silk scroll wall hanging. Rec'd—August 5, 2005. Estimated Value—$100 combined. Location—Deposited with the Secretary of the Senate, pending transfer to the General Services Administration | Dai Xianglong, Mayor of Tianjin, China | Non-acceptance would cause embarrassment to donor and U.S. Government.
Mark Dayton, U.S. Senator | 500-million year old scorpion fossil. Rec'd—August 8, 2005. Estimated Value—$125. Location—Deposited with the Secretary of the Senate, pending transfer to the General Services Administration | Li Mingman & Fan Chenghai, Laiwu Steel Group | Non-acceptance would cause embarrassment to donor and U.S. Government.
Pat Roberts, U.S. Senator | Oil on canvas painting in frame. Rec'd—September 29, 2005. Estimated Value—over $100. Location—Deposited with the Secretary of the Senate, pending transfer to the General Services Administration | General Director Mohamed Yassine Mansouri of Morocco | Non-acceptance would cause embarrassment to donor and U.S. Government.
Richard Lugar, U.S. Senator | Rug, 47″ wide. Rec'd—August 31, 2005. Estimated Value—over $100. Location—Deposited with the Secretary of the Senate, pending transfer to the General Services Administration | His Excellency Ilham Aliyev, President of the Republic of Azerbaijan | Non-acceptance would cause embarrassment to donor and U.S. Government.
Robert Bennett, U.S. Senator | Miniature engraving of the Sun Tsu's Art of War on bamboo slips. Rec'd—September 24, 2005. Estimated Value—$200. Location—Deposited with the Secretary of the Senate, pending transfer to the General Services Administration | A delegation of Mayors and Senior Officials from various cities in China | Non-acceptance would cause embarrassment to donor and U.S. Government.
Barack Obama, U.S. Senator | Rug, 47″ wide. Rec'd—August 31, 2005. Estimated Value—over $100. Location—Deposited with the Secretary of the Senate, pending transfer to the General Services Administration | His Excellency Ilham Aliyev, President of the Republic of Azerbaijan | Non-acceptance would cause embarrassment to donor and U.S. Government.
Hillary Rodham Clinton, U.S. Senator | Leather Desk Set. Rec'd—November 13, 2005. Estimated Value—$800. Location—Official Use, Displayed in SR-464 | His Majesty King Abdullah II of the Hashemite Kingdom of Jordan and Her Highness Queen Rania of Jordan | Non-acceptance would cause embarrassment to donor and U.S. Government.
Bill Frist, U.S. Senator | Russian Platter and Tea Set. Rec'd—April 13, 2005. Estimated Value—over $100. location—Deposited with Secretary of the Senate, pending transfer to the General Services Administration | Sergey Mikhail Margelov, Russian Senator | Non-acceptance would cause embarrassment to donor and U.S. Government.
Bill Frist, U.S. Senator | Set of (8) Silver Medals, 1 oz. each. Rec'd—October 6, 2005. Estimated Value—$300. Location—Deposited with Secretary of the Senate, pending transfer to the General Services Administration | His Excellency Ferenc Gyurcsany, Prime Minister of the Republic of Hungary | Non-acceptance would cause embarrassment to donor and U.S. Government.
Bill Frist, U.S. Senator | William & Son sterling silver decorative plate. Rec'd—September 30, 2004. Reported: January 18, 2006 for 2005 Report. Estimated Value—over $100. Location—Deposited with Secretary of the Senate, pending transfer to the General Services Administration | His Highness Sheikh Hamad Bin Khalifa Al-Thani, Amir of the State of Qatar | Non-acceptance would cause embarrassment to donor and U.S. Government.
Bill Frist, U.S. Senator | Hand-carved stone sculpture. Rec'd—April 24, 2004. Reported—January 18, 2006 for 2005 Report. Estimated Value—over $108. Location—Deposited with Secretary of the Senate, pending transfer to the General Services Administration | The Right Honorable Paul Martin, P.C., M.P., Prime Minister of Canada | Non-acceptance would cause embarrassment to donor and U.S. Government.
George Allen, U.S. Senator | Silver Box. Rec'd—November 20, 2005. Estimated Value—over $101. Location—Official Use, Displayed in SR-204 | His Excellency Shaukat Aziz, Prime Minister of the Islamic Republic of Pakistan | Non-acceptance would cause embarrassment to donor and U.S. Government.
George Allen, U.S. Senator | Silver Bowl. Rec'd—November 20, 2005. Estimated Value—$101. Location—Official Use, Displayed in SR-204 | Senate Chairman Soomro, Government of Pakistan | Non-acceptance would cause embarrassment to donor and U.S. Government.
Mike DeWine, U.S. Senator | Red and tan afghan rug with diamond design. Rec'd—January 12, 2005. Estimated Value—$300. Location—Official Use, Displayed in SR-140 | His Excellency Hamid Karzai, President of the Republic of Afghanistan | Non-acceptance would cause embarrassment to donor and U.S. Government.
Norm Coleman, U.S. Senator | Small teapot with lid made of Xc and wood pedestal. Rec'd—December 12, 2005. Estimated Value—$360. Location—Official Use, Displayed in SH-320 | Li Ka Shing, Chairman of Hutchison Whampoa | Non-acceptance would cause embarrassment to donor and U.S. Government.

AGENCY: United States Senate
[Report of Travel]
Name and title of person accepting travel on behalf of the U.S. Government | Brief description and estimated value of travel expenses accepted as consistent with the Interests of the U.S. Government and occurring outside the United States | Identity of foreign donor and government | Circumstances justifying acceptance
Jessica Fugate, Professional Staff Member; Senate Foreign Relations Committee | Ground transportation within Romania and Dinner. Rec'd—January 8-January 9, 2005. Est. Value—$75 | Government of Romania; Government of Romania | In-country expenses-fact-finding In-country expenses-fact-finding.
Jessica Fugate, Professional Staff Member; Senate Foreign Relations Committee | Ground transportation in Georgia. Rec'd—January 14, 15 and 16, 2005. Est. Value—$25 Lunch and dinner in Georgia Rec'd—January 14-January 15, 2005. Est. Value—$200 | Government of Georgia; Government of Georgia | In-country expenses-fact-finding In-country expenses-fact-finding.
Frederic Baron, Senior Policy Advisor; Office of Senator Barbara Mikulski | Local transportation within Romania. Rec'd—January 7-16, 2005. Est. Value—$25. Meals within in Romania. Rec'd—January 7-16, 2005. Est. Value—$50. Local transportation within Georgia Rec'd—January 7-16, 2005. Est. Value—$25. Meals within Georgia Rec'd—January 7-16, 2005. Est. Value—$200 | Government of Romania; Government of Georgia | Acceptance of limited hospitality appropriate and refusal would have caused offense Acceptance of limited hospitality appropriate and refusal would have caused offense.
Harry Reid, U.S. Senator | Transportation within Israel via helicopter to view barrier fence along West Bank. Rec'd—March 20, 2005 | Government of Israel; | Official travel to view barrier fence and have briefing-no commercial transportation available to this site.
Richard Durbin, U.S. Senator | Transportation within Israel; via helicopter to view barrier fence along West Bank. Rec'd—March 20, 2005 | Government of Israel; | Official travel to view barrier fence and have briefing-no commercial transportation available to this site.
Barbara Boxer, U.S. Senator | Transportation within Israel via helicopter to view barrier fence alone West Bank. Rec'd—March 20, 2005 | Government of Israel | Official travel to view barrier fence and have briefing-no commercial transportation available to this site.
Robert Bennett, U.S. Senator | Transportation within Israel via helicopter to view barrier fence along West Bank. Rec'd—March 20, 2005 | Government of Israel | Official travel to view barrier fence and have briefing-no commercial transportation available to this site.
Lamar Alexander, U.S. Senator | Transportation within Israel via helicopter to view barrier fence along West Bank. Rec'd—March 20, 2005 | Government of Israel | Official travel to view barrier fence and have briefing-no commercial transportation available to this site.
Ken Salazar, U.S. Senator | Transportation within Israel via helicopter to view barrier fence along West Bank. Rec'd—March 20, 2005 | Government of Israel | Official travel to view barrier fence and have briefing-no commercial transportation available to this site.
Dr. John Eisold, Attending Physician United States Senate | Transportation within Israel via helicopter to view barrier fence along West Bank. Rec'd—March 20, 2005 | Government of Israel | Official travel to view barrier fence and have briefing-no commercial transportation available to this site.
Rich Verma, Foreign Policy Advisor to the Democratic Leader | Transportation within Israel via helicopter to view barrier fence along West Bank. Rec'd—March 20, 2005 | Government of Israel | Official travel to view barrier fence and have briefing-no commercial transportation available to this site.
Bill Frist, U.S. Senator and Mrs. Karyn Frist | Transportation within Israel via helicopter to view barrier fence along the West Bank. Rec'd—May 2, 2005 | Government of Israel | Official travel to view barrier fence and have briefing-no commercial transportation available to this site. Non-acceptance of transportation would have been an affront to host country.
Bill Frist, U. S. Senator and Mrs. Karyn Frist | Transportation within Jordan via helicopter to Petra. Rec'd—May 4, 2005 | Government of Jordan | No commercial transportation available to this site. Non-acceptance of transportation would have been an affront to host country.
Mark Esper, National Security Advisor to the Majority Leader | Transportation within Israel via helicopter to view barrier fence along the West Bank. Rec'd—May 2, 2005. Transportation within Jordan via helicopter to Petra. Rec'd—May 4, 2005 | Government of Israel; Government of Jordan | Official travel to view barrier fence and have briefing-no commercial transportation available to this site. Non-acceptance of transportation would have been an affront to host country.
Nick Smith, Press Secretary for the Majority Leader | Transportation within Israel via helicopter to view barrier fence along the West Bank. Rec'd—May 2, 2005. Transportation within Jordan via helicopter to Petra. Rec'd—May 4, 2005 | Government of Israel; Government of Jordan | Official travel to view barrier fence and have briefing-no commercial transportation available to this site. Non-acceptance of transportation would have been an affront to host country.
Sally Walsh, Director, Office of Interparliamentary Services, Sec of Senate | Transportation within Israel via helicopter to view barrier fence along the West Bank. Rec'd—May 2, 2005. Transportation within Jordan via helicopter to Petra. Rec'd—May 4, 2005 | Government of Israel; Government of Jordan | Official travel to view barrier fence and have briefing-no commercial transportation available to this site. Non-acceptance of transportation would have been an affront to host country.
Lincoln Chafee, U.S. Senator | Hotel and meals. Rec'd—December 3-4, 2004. Reported—2006 for 2005 Report | Government of Bahrain and the International Institute for Strategic Studies | Official travel to participate in the Gulf Dialogue.
Deborah Brayton, Legislative Director Office of Senator Lincoln Chafee | Hotel and meals. Rec'd—December 3-4, 2004. Reported—2006 for 2005 Report. | Government of Bahrain and the International Institute for Strategic Studies | Official travel to participate in the Gulf Dialogue.
Eric P. Loewen, Congressional Fellow Office of Senator Chuck Hagel | Two nights hotel stay and 1 meal Rec'd—June 1-4, 2005 | European Union | Official travel to attend and speak at Green Week Conference.
Rich Verma, Senior Foreign Policy Advisor Office of Senator Harry Reid | Travel within Niger via U.N. World Food Programme plane to feeding centers, including lunch. Rec'd—August 30, 2005 | United Nations World Food Programme | Official travel to view feeding centers and attend briefing. No commercial transportation was available to these sites.
Hillary Rodham Clinton, U.S. Senator | Transportation from Israel to Jordan and return via helicopter. Rec'd—November 13, 2005 | Government of Jordan | Official travel to visit victims of terrorist attacks.
Huma Abedin, Senior Advisor, Office of Senator Hillary Rodham Clinton | Transportation from Israel to Jordan and return via helicopter. Rec'd—November 13, 2005 | Government of Jordan | Official travel to visit victims of terrorist attacks.

AGENCY: U.S. House of Representatives
[Report of tangible gifts]
Name and title of person accepting the gift on behalf of the U.S. Government | Gift, date of acceptance on behalf of the U.S. Government, estimated value, and current disposition or location | Identity of foreign donor and government | Circumstances justifying acceptance
Dennis J. Hastert, Member of Congress | Crystal Fox. Rec'd—September 15, 2005. Estimated Value—$325. Location—Official Use, On display in the Speaker's Office, Room H 232 of The U.S. Capitol | Lucien Weiler, Chamber of Deputies President, Government of Luxembourg | Non-acceptance would cause embarrassment to donor and U.S. Government.

AGENCY: United States House of Representatives
[Report of travel]
Name and title of person accepting travel on behalf of the U.S. Government | Brief description and estimated value of travel expenses accepted as consistent with the Interests of the U.S. Government and occurring outside the United States | Identity of foreign donor and government | Circumstances justifying acceptance
Michael M. Honda, Member of Congress | Transportation including charter flight to Lalibella, Axum, Mekelle and Zalambessa; lodging in Addis Ababa and Mekelle. Rec'd—May 31-June 6, 2005. Lunch Rec'd—June 1 and June 4, 2005 | Ministry of Foreign Affairs, Ethiopia | Authorized by 5 U.S.C. § 7342(c)(l)(B)(ii).
Steve King, Member of Congress | Transportation, entertainment, lodging and meals, for Member and spouse, in Australia. Rec'd—February 19-27, 2005 | Australia | Authorized by 5 U.S.C. § 7342(c)(l)(B)(ii).
Mark Steven, Kirk Member of Congress | Helicopter travel between Morelia, Michoacan, Mexico—Toluca, Mexico—Tonatico, Mexico. Rec'd—February 25, 2005 | State of Mexico | Authorized by 5 U.S.C. § 73 42(c)(l)(B)(ii).
Tom Lantos, Member of Congress | Travel by charter roundtrip flight from Libya to Algeria. Rec'd—March 27-28, 2005 | Libya | Authorized by 5 U.S.C. § 7342(c)(l)(B)(ii).
Diane Watson, Member of Congress | Hotel and meals, in Qatar. Rec'd—March 28-30, 2005 | University of Qatar | Authorized by 5 U.S.C. § 7342(c)(l)(B)(ii).
Jerry Weller, Member of Congress | Flight in country (Round-trip) on Government of Panama aircraft. Rec'd—2005 | Republic of Panama | Authorized by 5 U.S.C. § 7342(c)(l)(B)(ii).
Jim B. Clarke, Chief of Staff of Congresswoman Diane E. Watson | Hotel and meals in Qatar. Rec'd—March 28-30, 2005 | University of Qatar | Authorized by 5 U.S.C. § 7342(c)(l)(B)(ii).
Joan O. Condon, Staff, International Relations Committee | Travel by charter roundtrip flight from Libya to Algeria. Rec'd—March 27-28, 2005 | Libya | Authorized by 5 U.S.C. § 7342(c)(l)(B)(ii).
Eric Dell, Chief of Staff of Congressman Joe Wilson | Transportation, lodging and meals in Ukraine. Rec'd—February 20-27, 2005 | Supreme Rada of Ukraine | Authorized by 5 U.S.C. § 7342(c)(l)(B)(ii).
Monica DeLong Legislative Assistant of Congressman Roscoe Bartlett | Use of van to escort around Kiev, Ukraine. Rec'd—February 20-27, 2005 | Supreme Rada of Ukraine | Authorized by 5 U.S.C. § 7342(c)(l)(B)(ii).
Jennifer Van der Heide Escobar, Chief of Staff of Congressman Michael M. Honda | Transportation including charter flight to Lalibella, Axum, Mekelle and Zalambessa; lodgings in Addis Ababa and Mekelle. Rec'd—May 31-June 6, 2005. Lunch Rec'd—June 1 and June 4, 2005 | Ministry of Foreign Affairs, Ethiopia | Authorized by 5 U.S.C. § 7342(c)(l)(B)(ii).
Geraldine R. Gennet, General Counsel U.S. House of Representatives | 2 nights at Hotel Nazionale, Rome. Rec'd—Nov 30-December 1, 2005. Lunch Rec'd—Nov. 30-December 3, 2005. Dinner. Rec'd—December 1, 2005 | Italy | Authorized by 5 U.S.C. § 7342(c)(l)(B)(ii).
Liesl Hickey, Chief of Staff of Congressman Mark S. Kirk | Helicopter travel between Morelia, Michoacan, Mexico—Toluca, Mexico—Tonatico, Mexico. Rec'd—February 25, 2005 | State of Mexico | Authorized by 5 U.S.C. § 7342(c)(l)(B)(ii).
Xenia Horczakiwskyi, Legislative Director of Congressman Curt Weldon | Transportation, lodging and meals in Ukraine. Rec'd—February 20-26, 2005 | Ukraine | Authorized by 5 U.S.C. § 7342(c)(l)(B)(ii).
Kay King, Staff, House International Relations Committee | Travel by charter aircraft from Libya, to Algeria. Rec'd—March 28-29, 2005 | Libya | Authorized by 5 U.S.C. § 7342(c)(l)(B)(ii).
Robert King, Staff, House International Relations Committee | Travel by charter aircraft from Libya, to Algeria. Rec'd—March 28-29, 2005 | Libya | Authorized by 5 U.S.C. § 7342(c)(l)(B)(ii).
Alan Makowsky, Staff, House Committee on International Relations | Travel by charter aircraft from Libya to Algeria. Recd—March 28-29, 2005 | Libya | Authorized by 5 U.S.C. § 7342(c)(l)(B)(ii).
Gerasimos C. Vans, Deputy Clerk Office of the Clerk | Transportation, lodging and meals in Ukraine. Rec'd—February 20-27, 2005 | Ukraine | Authorized by 5 U.S.C. § 7342(c)(l)(B)(ii).
Gerasimos C. Vans, Deputy Clerk Office of the Clerk | Lodging in Australia. Rec'd—November 18-28, 2005 | Parliament of Australia | Authorized by 5 U.S.C. § 7342(c)(l)(B)(ii).
Alan B. Mollohan, Member of Congress and Mrs. Mollohan | Lodging at the Sheraton Bilboa Hotel in Bilboa, Spain for 4 nights. Rec'd.—June 27-July 1, 2004. Reported—May 4, 2006 for 2005 Report. Est. Value—$687.37 | Jose Antonio Campos, Minister of Innovation and Economic Promotion of Biscay Province Government | Authorized by 5 U.S.C. § 7342(c)(l)(B)(ii).

AGENCY: Department of the Navy
[Report of tangible gifts]
Name and title of person accepting the gift on behalf of the U.S. Government | Gift, date of acceptance on behalf of the U.S. Government, estimated value, and current disposition or location | Identity of foreign donor and government | Circumstances justifying acceptance
Michael C. Campbell, Japan P-3 Case Manager | Japanese Samaria Shogun: Replication in glass case with music box. Rec'd—September 22, 2005. Est. Value—$500 (by Bids 2185 Suite 1250 Patuxent River, MD Location—Official Use, gift on display in general office | CDR Rvoji Matsunaga, Japan Maritime Self Defense Force (JMSDF). Japan Technical Liaison Officer (TTLO) | Non-acceptance would cause embarrassment to donor and U.S. Government.

AGENCY: Department of the Air Force
[Report of tangible gifts]
Name and title of person accepting the gift on behalf of the U.S. Government | Gift, date of acceptance on behalf of the U.S. Government, estimated value, and current disposition or location | Identity of foreign donor and government | Circumstances justifying acceptance
Daniel S. Butler, Executive Director, Office of Special Investigations | Watch: Men's limited edition de la Cour watch (Swiss made), Serial Number S.3517.1. Rec'd—June 10, 2005. Est. Value—$2,100.00. Location—Air Force Office of Special Investigations/CX, Andrews Air Force Base, Maryland in a safe awaiting approval for Official Use | Mohamed Al-Nassr Sr., Quatari Security Attaché to the United States | Non-acceptance would cause embarrassment to donor and U.S. Government.
Pamela L. Frazier, Air Force/Company Commander Political Advisor | Watch: Raymond Weil Geneve Women's Wrist Watch Silver, with white face and with blue 1st & 2nd hands Model: 5373, Serial Z370515. Rec'd—April 12, 2005. Est. Value—$795.00. Location—Transferred to General Services Administration—July 13, 2005 | General and Prince Abdul Rachman, Saudi Arabia Air Chief | Non-acceptance would cause embarrassment to donor and U.S. Government.
John L. Pray, Jr., Colonel Wing Commander, 89 Air Wing Company Commander | Watch: Rolens stainless steel Men's watch with a gold seal of the Korean Blue House with engraved signature of the President of Korea. Rec'd—February 16, 2005. Est. Value—$350.00. Location—89 Air Wing Company Commander, Andrews Air Force Base, Maryland. Pending transfer to General Services Administration | Colonel Kim, Korean Air Attaché Republic of Korea | Non-acceptance would cause embarrassment to donor and U.S. Government.

AGENCY: Central Intelligence Agency
[Report of tangible gifts]
Name and title of person accepting the gift on behalf of the U.S. Government | Gift, date of acceptance on behalf of the U.S. Government, estimated value, and current disposition or location | Identity of foreign donor and government | Circumstances justifying acceptance
Porter J. Goss, Director Central Intelligence Agency | Goum silk rug, modern, ivory ground with palmette and trellising vine field centering a pulled star medallion on red to beige ground, blue-rust spandrels, palmette and trellising vine guard border on wine red ground. 5 feet by 3 feet. Rec'd—February 3, 2005. Est. value: $500.00. Location: To be retained for official display | 5 U.S.C. § 7342(f)(4) | Non-acceptance would cause embarrassment to donor and U.S. Government.
Porter J. Goss, Director Central Intelligence Agency | Cased Elizabeth II gilt silver four-piece coffee set, maker's marks GGM, London 2000, also with 925 marks. H. on coffee pot: 12-14 inches; Weight: 40 oz. H. of pedestal bowl: 9 V* inches; Weight: 32 oz. H. of sprinkler bottle: 9 inches; Weight: 10 oz. D. of tray: 11 × 4 inches; Weight 24 oz. Rec'd—February 6, 2005. Est. value—$1,950.00. Location—To be retained for official display | 5 U.S.C. § 7342(f)(4) | Non-acceptance would cause embarrassment to donor and U.S. Government.
An Agency Employee | Gentleman's Piaget 18 karat yellow gold and diamond wristwatch, modern, having a black matte dial with gold hands within a diamond set bezel and a flat mesh band. Rec'd—January 15, 2004. Reported—2006 for 2005 Report. Est. Value—$750.00. Location—To be retained for official display | 5 U.S.C. § 7342(f)(4) | Non-acceptance would cause embarrassment to donor and U.S. Government.
An Agency Employee | Contemporary 14-karat yellow gold ruby, sapphire and diamond three-piece ensemble, consisting of: a flexible bracelet, a pair of pierced earrings and a pendant with chain. L. of bracelet: 7 inches. Rec'd—March 20, 2003. Reported—2006 for 2005 Report. Est. Value—$500.00. Location—To be retained for official display | 5 U.S.C. § 7342(f)(4) | Non-acceptance would cause embarrassment to donor and U.S. Government.
An Agency Employee | Nain silk rug, 4 feet 10 inches by 3 feet, modern, windowpane field enclosing stylized rows and flowering branches, rosette guard border on rose ground. Rec'd—October 22, 2005. Est. Value—$500.00. Location—To be retained for official display | 5 U.S.C. § 7342(f)(4) | Non-acceptance would cause embarrassment to donor and U.S. Government.

AGENCY: Federal Reserve Board
[Report of tangible gifts]
Name and title of person accepting the gift on behalf of the U.S. Government | Gift, date of acceptance on behalf of the U.S. Government, estimated value, and current disposition or location | Identity of foreign donor and government | Circumstances justifying acceptance
Alan Greenspan, Chairman of the Federal Reserve Board | Framed Basel engraving by Johann Christian Haffher (1730). Rec'd—November 7, 2005. Est. Value—$607. Location—Approved for official use | Arnout Wellink, Chairman of the Board, Bank for International Settlements | Non-acceptance would cause embarrassment to donor and U.S. Government.
Alan Greenspan, Chairman of the Federal Reserve Board | Framed map of Europe by Emanuel Bowen (1745). Rec'd—November 7, 2005. Est. Value—$1,900. Location—Approved for official use | Jean-Claude Trichet, Chairman of the G-10 Governors, on behalf of the Bank for International Settlements | Non-acceptance would cause embarrassment to donor and U.S. Government.
Alan Greenspan, Chairman of the Federal Reserve Board | “Drum Dancer” carving by Silas Kayakjuak. Rec'd—November 30, 2005. Est. Value—$343. Location—Approved for official use | David Dodge, Governor, Gordon Thiessen, and John Crow, former Governors, Bank of Canada | Non-acceptance would cause embarrassment to donor and U.S. Government.

AGENCY: National Transportation Safety Board
[Report of travel]
Name and title of person accepting travel on behalf of the U.S. Government | Brief description and estimated value of travel expenses accepted as consistent with the Interests of the U.S. Government and occurring outside the United States | Identity of foreign donor and government | Circumstances justifying acceptance
Michael Hauf, Aerospace Engineer (Aerospace Systems) | Four days lodging at a hotel in Larnaca, Cyprus. The origination point of an 8/14/05 Helios Airline accident flight. The National Transportation Safety Board participated in the investigation on behalf of the United States. Rec'd—2005, Actual Date NA. Reported—2006 for 2005 Report. Estimated Value—$518.00 | Donor—The Air Accident and Aviation Safety Investigation Board (AAASIB) of Greece was the donor. The AAASIB is an agency of the government of Greece | The National Transportation Safety Board, pursuant to the Annex 13 to the Convention on International Civil Aviation, serves as U.S. representative in international civil aviation accident investigations and, as such provides technical assistance to the nation responsible for the investigation. The investigation of this 8/14/05 crash of a Helios: Airline Boeing 737, in Athens, Greece required investigative activities at the origination point of the flight. The AAASIB voluntarily provided for the lodging, which was accepted pursuant to National Transportation Safety Board authority found in 49 U.S.C. § 1113.

AGENCY: Office of Personnel Management
[Report of travel]
Name and title of person accepting travel on behalf of the U.S. Government | Brief description and estimated value of travel expenses accepted as consistent with the Interests of the U.S. Government and occurring outside the United States | Identity of foreign donor and government | Circumstances justifying acceptance
Dan G. Blair, Deputy Director | Expended for airfare, hotel and meals. Rec'd.—May 24, 2005. Estimated Value—$4,400 | Organization for Economic Cooperation and Development in Paris, France | Conference Participant.

AGENCY: United States Agency for International Development
[Report of travel]
Name and title of person accepting travel on behalf of the U.S. Government | Brief description and estimated value of travel expenses accepted as consistent with the Interests of the U.S. Government and occurring outside the United States | Identity of foreign donor and government | Circumstances justifying acceptance
Andrew S. Natsios, former U.S. Agency for International Development Administrator | Lodging expenses while attending the G-14 Donors Conference. Date—February 3, 2005. Estimated Value—$457.71 | Government of Columbia | All chiefs of the delegation at the international conference were provided lodging.

[FR Doc. 06-6688 Filed 8-8-06; 8:45 am]

BILLING CODE 4710-20-P